DEPARTMENT OF HOUSING AND URBAN DEVELOPMENT

[Docket No. FR-5750-N-07]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Juanita Perry, Department of Housing and Urban Development, 451 Seventh Street SW., Room 7262, Washington, DC 20410; telephone (202) 708-1234; TDD number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD reviewed in 2013 for suitability for use to assist the homeless. The properties were reviewed using information provided to HUD by Federal landholding agencies regarding unutilized and underutilized buildings and real property controlled by such agencies or by GSA regarding its inventory of excess or surplus Federal property.

In accordance with 24 CFR part 581.3(b) landholding agencies were required to notify HUD by December 31, 2012, the current availability status and classification of each property controlled by the Agencies that were published by HUD as suitable and available which remain available for application for use by the homeless.

Pursuant to 24 CFR part 581.8(d) and (e) HUD is required to publish a list of those properties reported by the Agencies and a list of suitable/unavailable properties including the reasons why they are not available.

Where property is described as for “off-site use only” recipients of the property will be required to relocate the building to their own site at their own expense. Homeless assistance providers interested in any such property should send a written expression of interest to HHS, addressed to Theresa Ritta, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For more information regarding particular properties identified in this Notice (e.g., acreage, floor plan, existing sanitary facilities, exact street address), providers should contact the appropriate landholding agencies at the following addresses: AGRICULTURE: Ms. Debra Kerr, Department of Agriculture, Reporters Building, 300 7th Street SW., Room 300, Washington, DC 20024, (202) 720-8873; AIR FORCE: Ms. Connie Lotfi, Air Force Real Property Agency, 143 Billy Mitchell Blvd., San Antonio, TX 78226, (210) 925-3047; ARMY: Ms. Veronica Rines, Office of the Assistant Chief of Staff for Installation Management, Department of Army, Room 5A128, 600 Army Pentagon, Washington, DC 20310, (571) 256-8145; COE: Mr. Scott Whiteford, Army Corps of Engineers, Real Estate, CEMP-CR, 441 G Street NW., Washington, DC 20314, (202) 761-5542; Commandant, United States Coast Guard, Attn: Jennifer Stomber, 2703 Martin Luther King Jr. Ave. SE., Stop 7714, Washington, DC 20593, (202) 475-5609; ENERGY: Mr. David Steinau, Department of Energy, Office of Property Management, 1000 Independence Ave. SW., Washington, DC 20585, (202) 287-1503; GSA: Mr. Flavio Peres, General Services Administration, Office of Real Property Utilization and Disposal, 1800 F Street NW., Room 7040, Washington, DC 20405, (202) 501-0084; INTERIOR: Mr. Michael Wright, Acquisition & Property Management, Department of the Interior, MS-4262, 1849 C Street, Washington, DC 20240, (202) 513-0795; NAVY: Mr. Steve Matteo, Department of the Navy, Asset Management Division, Naval Facilities Engineering Command, Washington Navy Yard, 1330 Patterson Ave. SW., Suite 1000, Washington, DC 20374, (202) 685-9426; (These are not toll-free numbers).

Dated: February 6, 2014.
Mark Johnston,
Deputy Assistant Secretary for Special Needs.

TITLE V PROPERTIES REPORTED IN YEAR 2013 WHICH ARE SUITABLE AND AVAILABLE

Agriculture

Colorado

Building

Pagosa JCC Bunkhouse Property Number: 15201320002

3939 Piedra Rd.

Pagosa Springs CO 81147

Status: Excess

Comments: 48 yrs.-old; 1 floor; 120 months vacant; very poor conditions

Georgia

Mobile Lab Trailer; 660400B005 Property Number: 15201330015

RPUID 03.55443 Lab

20406; Site 00: Nat'l Peanut Research

Shellman GA 39886

Location: 1632 Burny Rd.

Status: Excess

Comments: Off-site removal only; 480 sf.; storage; good/moderate conditions; contact Agriculture for more info.

Equipment Stg. Chicken House Property Number: 15201330029

15604, Site 00 (934 College Station Rd.

Athens GA 30605

Status: Excess

Comments: Off-site removal; 1,200 sf.; storage; 15+ months vacant; termite damage; contact Agric. for accessibility removal reqs.

Illinois

Nematology HH/GH 194 Property Number: 15201330014

1105 S. Dorner Dr.

Urbana IL

Location: ARS Inventory No 361100B194 and RPUID 03.51582

Status: Unutilized

Comments: 3,582 sf.; greenhouse; 15+ months vacant; repairs needed; transferee will need to negotiate a lease w/State University (who owns land the bldg. sits on); contact Agriculture for more info.

Minnesota

Kawishiwi Ranger Station Property Number: 15201330034

1393 Highway 169

Ely MN 55731

Status: Excess

Comments: 6 x 8′; toilet; need repairs; contact Agriculture for more info.

Mississippi

Modular #2; 640400B028; RPUID Property Number: 15201340003

13762 Small Fruits Research Station

Poplarville MS 39470

Status: Unutilized

Comments: 1,440 sq. ft.; lab; 12+ months vacant; fair conditions; contact Agriculture for more info.

Modular #1; 640400B027; RPUID: Property Number: 15201340005

03.804

13762 Small Fruits Research Station

Poplarville MS 39470

Status: Unutilized

Comments: 1,440 sq. ft.; 12+ months vacant; fair conditions; contact Agriculture for more information.

Lab/Support 2; 640400B002; Property Number: 15201340006

RPUID 03.54463

13762 Small Fruits Research Station

Poplarville MS 39470

Status: Unutilized

Comments: 1,215 sq. ft.; Lab: 12+ months vacant; fair condition; need new roof; mold present; contact Agriculture for more information.

Building

Office/Lab 1; 640400B001; Property Number: 15201340007

RPUD 03.54462

13762 Small Fruits Research Station

Poplarville MS 39470

Status: Unutilized

Comments: 2,800 sq. ft.; 12+ months vacant; fair conditions; need new roof; mold present; contact Agriculture for more information.

Montana

Abbott Bay Toilet Property Number: 15201320021

Flathead National Forest

Flathead MT

Location:

Infra #5021

Status: Excess

Comments: Off-site removal only; 97 sf; located in remote location; deteriorated; abandoned for a number of years.

Double Arrow Radio Bldg. #1246 Property Number: 15201330013

Lolo Nat'l Forest

Seeley Ranger District MT

Status: Excess

Comments: Off-site removal only; removal may be very difficult due to structure type; 80 sf.; shed; damage due to snow; contact Agriculture for more info.

North Dakota

Pactola Work Center, Dwelling Property Number: 15201330028

13950 HWY 44

Rapid City ND 57709

Status: Excess

Comments: Off-site removal only; 680 sf., 120+ months vacant; seasonal residence; deteriorated; rodent infestation contact Agric. for more info.

Oregon

Dale Residence (1052) Property Number: 15201310001

48743 Hwy 395 N.

Dale OR 97880

Status: Excess

Comments: 894 sf.; residential; 84+ mons. vacant; repairs needed; asbestos; w/in controlled area; contact Ranger District for accessibility

Dale Duplex (1057) (1056) Property Number: 15201310002

48743 Hwy 395 N.

Dale OR 97880

Status: Excess

Comments: 1,376 sf.; residential; repairs needed; w/in controlled area; contact Ranger District for accessibility

Dale Residence (1058) Property Number: 15201310003

48743 Hwy 395 N.

Dale OR 97880

Status: Excess

Comments: 1,830 sf.; residential; 84+ mons. vacant; major repairs needed; asbestos

Dale Residence (1059) Property Number: 15201310004

48743 Hwy 395 N.

Dale OR 97880

Status: Excess

Comments: 1,830 sf.; residential; 84+ mons. vacant; major repairs needed; asbestos; w/in controlled area; contact Ranger District for accessibility

Dale Residence (1060) Property Number: 15201310005

48743 Hwy 395 N.

Dale OR 97880

Status: Excess

Comments: 1,376 sf.; residential; 84+ mons. vacant; repairs needed; lead & asbestos; w/in controlled area; contact Ranger District for accessibility

Dale Residence (1074) Property Number: 15201310006

48743 Hwy 395 N.

Dale OR 97880

Status: Excess

Comments: 1,480 sf.; residential; 84+ mons. vacant; repairs needed; asbestos; w/in controlled area; contact Ranger District for accessibility

Dale Residence (1075) Property Number: 15201310007

48743 Hwy 395 N.

Dale OR 97880

Status: Excess

Comments: 1,480 sf.; residential 84 mons.vacant; repairs needed; asbestos; w/in controlled area; contact Ranger District for accessibility

Dale Residence (1076) Property Number: 15201310008

48743 Hwy 395 N.

Dale OR 97880

Status: Excess

Comments: 1,480 sf.; residential; 84+ mons. vacant; repairs needed; w/in controlled area; contact Ranger District for accessibility

Dale Residence (1082) Property Number: 15201310009

48743 Hwy 395 N.

Dale OR 97880

Status: Excess

Comments: 1,480 sf.; residential; 84+ mons. vacant; major repairs needed; asbestos; w/in controlled area; contact Ranger District for accessibility

Dale Residence (1083) Property Number: 15201310010

48743 Hwy 395 N.

Dale OR 97880

Status: Excess

Comments: 1,480 sf.; residential; 84+ mons. vacant; repairs; asbestos; w/in controlled area; contact Ranger District for accessibility

Dale Residence (1006) Property Number: 15201310011

48743 Hwy 395 N.

Dale OR 97880

Status: Excess

Comments: 684 sf.; residential; 120 mons. vacant; repairs needed; lead based paint; w/in controlled area; contact Ranger District for accessibility

Dale Modular (1098) Property Number: 15201310012

48743 Hwy 395 N.

Dale OR 97880

Status: Excess

Comments: 1,344 sf.; residential; 84+ mons. vacant; fair conditions; asbestos; w/in controlled area; contact ranger District for accessibility

Dale Bunkhouse (1319) Property Number: 15201310013

48743 Hwy 395 N.

Dale OR 97880

Status: Excess

Comments: 2,024 sf.; residential; 84+ mons. vacant; fair conditions; asbestos; w/in controlled area; contact Ranger District for accessibility

Dale Garage Property Number: 15201310014

48743 Hwy 395 N.

Dale OR 97880

Status: Excess

Comments: 360 sf.; storage; 84+ mons. vacant; good conditions; minor repairs; w/in controlled area; contact Ranger District for accessibility

Dale Ranger Station (2002) Property Number: 15201310015

48743 Hwy 395 N.

Dale OR 97880

Status: Excess

Comments: 1,768 sf.; storage; 84+ mons. vacant; poor conditions; asbestos; w/in controlled area; contact Ranger District for accessibility

Dale D.R. Residence (1002) Property Number: 15201310018

48743 Hwy 395 N.

Dale OR 97880

Status: Excess

Comments: 1,830 sf.; residential; 84+ mons. vacant; major repairs needed; asbestos; w/in controlled area; contact Ranger District for accessibility

Allingham Guard House (0765700 Property Number: 15201340001

Bldg. # 1060, Region 06, Forest 01

Camp Sherman OR 97730

Location: NF Road 1217 near Smiling River

Status: Excess

Comments: Off-site removal only; 1040 sq. ft.; residential; very poor conditions;

South Dakota

Building

Pactola Work, Dwelling 2 (3537 Property Number: 15201330030

13950 Hwy 44

Rapid City SD 57709

Status: Excess

Comments: Off-site removal only; 670 sf.; 120+ months vacant; seasonal residence; deteriorated; rodent infestation; holes in walls; contact Agric. for more info.

Pactola Work Center Dwelling 3 Property Number: 15201330031

13950 Hwy 44

Rapid City SD 57709

Status: Excess

Comments: Off-site removal only; 480 sf.; seasonal residence; rodent infestation; holes in walls; contact Agric. for more info.

Horse Shed Property Number: 15201330032

23923 Hwy, 385

Hill City SD 57745

Status: Excess

Comments: Off-site removal only; 300 sf.; 126+months vacant; poor conditions; contact Agric. for more info.

Texas

Building 48 Property Number: 15201320001

2881 F&B Rd.

College Station TX

Status: Excess

Comments: 1,344 sf; double-wide trailer; 24 months vacant; floors & wall deteriorated

Air Force

Alaska

Building

9 Buildings Property Number: 18201240030

JBER-E

Anchorage AK 99506

Location: 5374, 59122, 59348, 76520, 16519, 16521, 9570, 7179, 8197

Status: Unutilized

Comments: Off-site removal only; sf. varies; moderate conditions; restricted area; contact AF for more info. on a specific property & accessibility/removal requirements

4 Buildings Property Number: 18201310014

JBER

JBER AK 99506

Location: 10449, 27369, 33855, 35750

Status: Unutilized

Comments: Off-site removal only; sf. varies; moderate conditions; restricted area; contact AF for more info. on a specific property & accessibility/removal reqs.

Building 6260 Property Number: 18201310015

Arctic Warrior Dr.

JBER AK 99506

Status: Unutilized

Comments: Off-site removal only; 75,720 sf.; Admin./Storage; moderate conditions; restricted area; contact AF for info. on accessibility/removal reqs.

3 Buildings Property Number: 18201310016

Gibson Ave.

JBER AK 99506

Location: 6252, 6257, 7263

Status: Unutilized

Comments: Off-site removal only; sf. varies; storage; moderate conditions; restricted area; contact AF for more info. on a specific property & accessibility/removal reqs.

2 Buildings Property Number: 18201310030

Industrial Ave.

Eielson AFB AK 99702

Location: 6213, 6214

Status: Unutilized

Comments: Off-site removal only; sf. varies; major repairs needed; contact AF for more info. on a specific property & accessibility/removal reqs.

Building 400 Property Number: 18201320079

Main Street

King Salmon Airport AK

Status: Unutilized

Comments: 1,408 sf.; storage; 29 yrs. old; moderate conditions; periodic flooding (next to Naknek River)

Building 715 Property Number: 18201320082

Fuel Lane

King Salmon Airport AK

Status: Unutilized

Comments: 256 sf.; fuel building; 24+ months vacant; deteriorated; contamination

Building 720 Property Number: 18201320083

Fuel Lane

King Salmon Airport AK

Status: Unutilized

Comments: 285 sf.; fuel building; 24+ months vacant; deteriorated; periodic flooding (next to Naknek River)

14 Buildings Property Number: 18201330010

Seward Recreation Camp

Seward AK 99664

Location: 100, 101, 104, 300, 301, 303, 302, 304, 305, 306, 307, 308, 309, 310

Status: Excess

Comments: Off-site removal only; sf. varies; 9+ months vacant; moderated conditions; contact Air Force for more info. on a specific property and removal requirements.

Land

Parcel of Land Property Number: 18201330011

Joint Base Elmendorf Richardson

JBER AK 99506

Status: Underutilized

Comments: 20x20 (400sf.); secured area; must obtain a visitor's pass & have a gov't sponsor escort to access installation; contact Air Force for more info.

Portion of Land Property Number: 18201330012

Joint Base Elmendorf Richardson

JBER AK 99505

Status: Underutilized

Comments: 1600 sf.; secured area; visitor's pass and gov't sponsored required; contact Air Force for more info.

Portion of Land Property Number: 18201330013

Joint Base Elmendorf Richardson

JBER AK 99505

Status: Underutilized

Comments: .29 acres; secured area; visitor's pass & gov't sponsor required; contact Air Force for more info.

37,515 SF of Land Property Number: 18201340003

JBER-Elmendorf

JBER AK 99506

Status: Underutilized

Comments: Restricted area; transferee must obtain a government sponsor to access property; contact Air Force for more info.

California

Building 1028 Property Number: 18201240009

19338 North St.

Beale CA 95903

Status: Unutilized

Comments: 178 sf.; storage; poor conditions; asbestos & lead; restricted area; contact AF for info. on accessibility requirements

Building 2153 Property Number: 18201240010

6900 Warren Shingle

Beale AFB CA 95903

Status: Unutilized

Comments: 4,000; very poor conditions; asbestos & lead possible; restricted area; contact AF for info. on accessibility requirements

Former Mather AFB Property Number: 18201310064

Former Mather AFB

Rancho Cordova CA 95655

Location: Includes five bldgs. and land; bldgs. #: 1703, 1705, 1706, 1707, 1708

Status: Excess

Comments: Previously reported in 1992; total sf.: 191,446; sits on 15 acres; used for: residential; good condition

Colorado

6 Buildings Property Number: 18201320042

GJKZ

Fairchild AFB CO 99011

Location: 1478, 1479, 1480, 1482, 1483, 1484

Status: Underutilized

Comments: Off-site removal only; no future AF need; sf. varies; w/inactive military installation; contact AF for removal/accessibility reqs.

Florida

Building 5002 Property Number: 18201310010

6801 Hwy 98

Tyndall AFB FL 32403

Status: Unutilized

Comments: 151 sf.; water pump station; 6 mons. vacant; major repairs; restricted area; contact AF for info. on accessibility reqs.

2 Buildings Property Number: 18201340040

Cocoa Beach Tracking Annex

Cocoa Beach FL 32931

Location: 00001 (59 sq. ft.); 00002 (1,030 sq. ft.)

Status: Unutilized

Comments: 56+ yrs.-old; 24+ months vacant; launch support; fair conditions; contact Air Force for more info.

Land

WBPA (9901/72441/99300) Property Number: 18201310041

9901 E. Pine Ave.

St. George Island FL 32328

Status: Excess

Comments: .34 acres; tower & fence needs to be removed; remote access; contact AF for more info.

99142 Land Property Number: 18201340041

Cocoa Beach Tracking Annex

Cocoa Beach FL 32931

Status: Unutilized

Comments: .31 acre; launch support; subject to storm tidal surges that may cause flooding; contact Air Force for more info.

Georgia

5 Buildings Property Number: 18201330006

Moody Air Force Base

Moody GA 31699

Location: 1703 (853 sf.); 907 & 908 (9,186 sf. each); 662 & 754 (10,240 sf. each)

Status: Underutilized

Comments: Very poor conditions; 50-70 yrs.-old; contamination; secured area; transferee will need escort each time to access property; contact Air Force for more info.

Building 931 Property Number: 18201330008

1501 First St.

Dobbins Air Reserve GA 30069

Status: Unutilized

Comments: Off-site removal only; 4,347 sf.; office space; 59 yrs. old; poor conditions; need repairs; contamination; secured area; contact Air Force for more info.

Louisiana

Building 117 Property Number: 18201330046

Naval Air Station Joint Reserve Base

New Orleans LA 70143

Status: Excess

Comments: 3,975 sf.; storage; deteriorated; secured area; background check/pass required; contact Air Force for more info. re.; accessibility reqs.

Building 019 Property Number: 18201330050

Naval Air Station joint Reserve Base

New Orleans LA 70143

Status: Excess

Comments: 3,038 sq. ft.; storage; deteriorated; secured area; official ID required; contact Air Force for more information

Massachusetts

3 Buildings Property Number: 18201310026

Hudson Rd.

Sudbury MA

Location:

01, 04, 05

Status: Excess

Comments: Sf. varies; lab; fair conditions; restricted area; contact AF for info. on accessibility reqs.

7 Buildings Property Number: 18201320062

Westover ARB

Chicopee MA 01022

Location: 7701, 7704, 7706, 7707, 2426, 2765, 7700

Status: Underutilized

Comments: Off-site removal only; no future AF need; sf. varies; adequate to very poor conditions; contamination; restricted area; escort required; contact AF for more info.

Michigan

3 Buildings Property Number: 18201220020

Selfridge ANGB

Selfridge MI 48045

Location: 326, 780, 710

Status: Unutilized

Comments: Off-site removal only; sf varies; office/school/barracks; fair conditions; need repairs

Mississippi

Building 112 Property Number: 18201330041

CRTC Gulfport

Gulfport MS 39507

Status: Excess

Comments: 90 sf.; ATM bldg.; good conditions; contact Air Force for more info.

Nevada

Bldg. 72 Property Number: 18201340014

152 Airlift Wing

Reno NV 39502

Status: Excess

Comments: Off-site removal only; 1,200 sq. ft.; storage; 36+ months vacant; need repairs; secured area; contact Air Force for more info.

New York

Land

Parcel 7 Property Number: 18201340036

AFRL/RI Rome Lab

Rome NY 13441

Status: Unutilized

Comments: 1.722 acres; vacant; partially paved w/chain linked fence surrounding part of property; contact Air force for more info.

North Dakota

2 Buildings Property Number: 18201330017

JFSD Grand Forks AFB

Grand Forks ND 58205

Location:

822(162 sf.), 821(264 sf.)

Status: Unutilized

Comments: Deteriorated conditions; contamination; secured area; escort required each time to access; contact Air Force for more info.

Oklahoma

Building 267 Property Number: 18201310039

7576 Sentry Blvd.

Tinker AFB OK 73145

Status: Unutilized

Comments: Off-site removal only; 6,892 sf.; vehicle parking shed; fair conditions; restricted area; contact AF for info. on accessibility/removal requirements

Building 1100 Property Number: 18201320024

7492 Patrol Road

Tinker AFB OK 73145

Status: Underutilized

Comments: Off-site removal only; no future AF need; 5,471 sf.; maint. facility; fair/poor condition; controlled AF installation, contact AF for more info.

Building 944 Property Number: 18201320026

4600 Air Depot Blvd.

Tinker AFB OK 73145

Status: Underutilized

Comments: Off-site removal only; no future AF need; 2,400 sf.; warehouse; fair/poor condition; controlled AF installation; contact AF for info. re: accessibility/removal

Building 1111 Property Number: 18201330028

Tinker AFB

Tinker OK 73145

Status: Unutilized

Comments: Off-site removal only; no future agency need; 231 sf.; utility bldg.; generally good conditions; secured area; contact Air Force for more info.

2 Buildings Property Number: 18201330029

Tinker AFB

Tinker OK 73145

Location: 1072, 901

Status: Unutilized

Comments: Off-site removal only; no agency need; poor conditions; secured area; contact Air Force for info. on a specific property & removal requirements.

Building 183 Property Number: 18201340001

Altus AFB AGGN

Altus OK 73523

Status: Unutilized

Comments: 167 sq. ft.; no bathroom; secured area; escort required each time to access property; asbestos; contact Air Force for more info.

Puerto Rico

Muniz IAP Property Number: 18201320069

200 Jose A (Tony) Santana Ave.

Corolina PR 09879

Status: Unutilized

Comments: 755 sf.; potable water storage & pump house; poor conditions; secured area; escort required to access property; contact AF for more info.

South Carolina

2 Building Property Number: 18201320054

Shaw AFB

Sumter SC 29152

Location: 1036, 1826

Status: Unutilized

Comments: Off-site removal only; no AF future need; sf. varies; poor conditions; secured area, contact AF for more info.

4 Buildings Property Number: 18201320055

Shaw AFB

Sumter SC 29152

Location: 1027, 1028, 2451, 1034

Status: Underutilized

Comments: Off-site removal only; no AF future need; sf. varies; poor conditions; secured area; contact AF for more info.

Building 1036 Property Number: 18201320086

311 Avocet Street, Street, Shaw AFB

Sumter SC 29152

Status: Unutilized

Comments: Off-site removal only; no future agency need; 1,694 sf.; open storage for auto hobby shop; repairs needed; secured area; contact AF for more info.

Building 1826 Property Number: 18201320087

100 Shaw Dr., Shaw AFB

Sumter SC 29152

Status: Unutilized

Comments: Off-site removal only; no future agency need; 984 sf. wash rack; repairs needed; secured area; contact AF for more info.

Texas

#1658 Training Lodge Support Property Number: 18201340042

Building

219 K Avenue

Sheppard AFB TX 76311

Status: Underutilized

Comments: 11,743 sq. ft.; 5+months vacant; 60+years old; secured area; escort required to access property; contact Air Force for more information.

#1919 Technical Training Property Number: 18201340043

Support

921 Missile Road

Sheppard AFB TX 76311

Status: Unutilized

Comments: 10,493 sq. ft.; 7+months vacant; 52+years old; secured area; escort required to access property; contact Air Force for more information.

#1023 Compressed Air Plant Property Number: 18201340044

Building

507 10th Street

Sheppard AFB TX 76311

Status: Underutilized

Comments: 572 sq. ft.; storage; 52+ years old secured area; escort required to access property; contact Air Force for more information.

#2017 Petroleum Operations Property Number: 18201340045

Building

1402 K Avenue

Sheppard AFB TX 76311

Status: Underutilized

Comments: 1,811 sq. ft.; storage; 47 years old; secured area; escort required to gain access to property; contact Air Force for more information.

#1641 Be Maint Shop Property Number: 18201340046

Sheppard AFB

Sheppard TX 76311

Status: Underutilized

Comments: 1,546 sq. ft., storage; 40+yrs.-old; secured area; escort required to access property; contact AF for more info.

Utah

7 Buildings Property Number: 18201340026

Hill AFB

Layton UT 84056

Location: 01245 (15,103 sq. ft.); 00016 (560 sq. ft.); 1601 (2,785 sq. ft.); 1602 (127 sq. ft.); 1603 (1,000 sq. ft.); 1604 (127 sq. ft.); 1605 (120 sq. ft.)

Status: Excess

Comments: Off-site removal only; 70+ yrs.-old; repairs needed; secured area; clearance for removal granted by installation commander; contact Air Force for more info.

13 Buildings Property Number: 18201340027

Hill AFB

Layton UT 84056

Location: 1607 (16,050 sq. ft.); 1608 (130 sq. ft.); 1609 (1,000 sq. ft.); 1901 (5,160 sq. ft.); 1902 (8,902 sq. ft.); 1946 (2,436 sq. ft.); 2214 (14,086 sq. ft.); 2232 (1,148 sq. ft.); 2238 (1,148 sq. ft.); 2241 (3,297 sq. ft.); 517 (26,602 sq. ft.) 518 (26,602 sq. ft.)

Status: Excess

Comments: Off-site removal only; 70+ yrs.-old; repairs needed; secured area; clearance for removal granted by installation commander; contact Air Force for more info.

01244 Property Number: 18201340038

Hill AFB

Layton UT 84056

Status: Excess

Comments: Off-site removal only; 14,279 sq. ft.; clearance for removal granted by installation commander; contact Air Force for more info.

Building 11; Hill AFB Property Number: 18201340047

5923 C Ave.

Layton UT 84056

Status: Excess

Comments: Off-site removal only; 18,898 sq. ft.; office/maint. shop; 72+ yrs.-old; deteriorated; asbestos; secured area; contact Air Force for more info.

Virginia

5 Buildings Property Number: 18201340029

Fort Eustis

Ft. Eustis VA 23604

Location: 2739 (2,965 sq. ft.); 2740 (395 sq.); 2746 (9,783 sq. ft.); 2796 (8,453 sq. ft.); 2798 (8,736 sq. ft.)

Status: Unutilized

Comments: Off-site removal only; no future agency need; age: 1967 (except bldg. 2740; est. 2008); deteriorated; contact Air Force for more info. on a specific property/accessibility reqs.

Army

Alabama

Building

C1301 Property Number: 21201220017

Ft. McClellan

Ft. McClellan AL 36205

Status: Excess

Comments: Off-site removal only; 2,232 sf.; barracks; extensive repairs needed; secured area; need prior approval to access property

24 Building Property Number: 21201330051

Redstone Arsenal

Redstone Arsenal AL 35898

Location: 02591, 03452, 03456, 3533, 3536, 3537, 3541, 3714, 3764A, 4819, 5297, 06302, 7354A, 7354B, 7613A, 7740A, 07772, 07775, 07776, 07779, 07780, 07834, 8700, 8886

Status: Unutilized

Comments: Off-site removal only; no future agency need; sf. varies poor to deteriorated conditions; secured area; contact Army for more info on a specific property & accessibility/removal reqs.

Alaska

Bldg. 00001 Property Number: 21200340075

Kiana Nat'l Guard Armory

Kiana AK 99749

Status: Excess

Comments: 1200 sq. ft., butler bldg., needs repair, off-site use only

Bldg. 00001 Property Number: 21200710051

Holy Cross Armory

High Cross AK 99602

Status: Excess

Comments: 1200 sq. ft. armory, off-site use only

B-00877 Property Number: 21201220052

Fort Greely

Ft. Greely AK 99731

Status: Unutilized

Comments: Off-site removal only; 14,824 sf.; family housing; poor conditions; need repairs; asbestos & lead identified; secured area; prior approval needed to access & relocate

17 Buildings Property Number: 21201310033

Ft. Greely

Ft. Greely AK 99731

Location: 00140, 00804, 00805, 00806, 00808, 00809, 00810, 00820, 00821, 00822, 00823, 00825, 00827, 00829, 00830, 00831, 01213

Status: Unutilized

Comments: Off-site removal only; sf. varies; poor conditions; w/in secured area; contact Army for info. on a specific property & accessibility/removal requirements

Building 00001 Property Number: 21201320038

9679 Tuluksak Rd.

Toksook AK 99679

Status: Excess

Comments: 1,200 sf.; armory; 60 months vacant; poor conditions

Building 00001 Property Number: 21201330030

Lot 7 Block 11 US Survey 5069

Noorvik AK 99763

Status: Excess

Comments: 1,200 sf. armory; 60+months vacant; poor conditions; contact Army for more info.

Building 00001 Property Number: 21201330031

P.O. Box 22

Gambell AK 99742

Status: Excess

Comments: 1,208 sf.; armory; 60+ months vacant; poor conditions; contact Army for more info.

Building 0001 Property Number: 21201330032

Kivalina Armory

Kivalina AK 99750

Status: Excess

Comments: 1,200 sf. armory; 600+months vacant; poor conditions; contact Army for more info.

Akiachak 00001 Property Number: 21201330033

500 Philips St.

Akiachak AK 99551

Status: Excess

Comments: 1,200 sf.; armory; 60+ months vacant; poor conditions; contact Army for more info.

Arizona

Bldg. S-306 Property Number: 21199420346

Yuma Proving Ground

Yuma Co: Yuma/La Paz AZ 85365-9104

Status: Unutilized

Comments: 4103 sq. ft., 2-story, needs major rehab, off-site use only

Bldg. 503, Yuma Proving Ground Property Number: 21199520073

Yuma Co: Yuma AZ 85365-9104

Status: Underutilized

Comments: 3789 sq. ft., 2-story, major structural changes required to meet floor loading code requirements, presence of asbestos, off-site use only

Arkansas

7 Bldgs. Property Number: 21201140055

Pine Bluff Arsenal

Pine Bluff AR 71602

Location: 57240, 57210, 57160, 57150, 57120, 5743, 5739

Status: Unutilized

Comments: Off-site removal only; sq. ft. varies; current use: lab/test bldg.

Bldg. 57260 Property Number: 21201140057

Pine Bluff Arsenal

Pine Bluff AR 71602

Status: Unutilized

Comments: Off-site removal only; 9,474 sq. ft.; current use: CHM EQ/MAT Bldg.

Bldg. 16440 Property Number: 21201210095

Pine Bluff Arsenal

Pine Bluff AR 71602

Status: Unutilized

Comments: Off-site removal; 1,660 sf.; current use: office; extensive mold damage; needs major repairs

California

Bldgs. 18026, 18028 Property Number: 21200130081

Camp Roberts

Monterey CA 93451-5000

Status: Excess

Comments: 2024 sq. ft. sq. ft., concrete, poor condition, Off-site use only

258 Property Number: 21201230002

7th Division Rd.

Monterey CA 93928

Location:

Hunter Liggett, Fort

Status: Unutilized

Comments: Off-site removal only; 192 sf.; use: storage; transferee required to get real estate document authorizing access; secured area; must contact Directorate of Public Works to arrange to access property

5 Buildings Property Number: 21201230043

JFTB

Los Alamitos CA 90720

Location: 148,149,261,280,281

Status: Excess

Comments: Off-site removal only; sf. varies; use: storage; poor conditions; contamination; permission required to access property to remove of installation

1201T Property Number: 21201310060

Tower Rd.

Dubin CA 94568

Status: Unutilized

Comments: Off-site removal only; 30 sf.; control tower; poor conditions; restricted area; transferee must obtain real estate doc. to access/remove; contact Army for more info.

1201S & 1205S Property Number: 21201310062

Tower Rd.

Dublin CA 94568

Location: previously reported under 21201010006

Status: Unutilized

Comments: REDETERMINATION: off-site removal only; 396 & 252 sf. repetitively; storage; poor conditions; transferee will need to obtain real estate doc. to access/remove property; contact Army for more info.

2 Building Property Number: 21201330002

Parks Reserve Forces Training Area

Dublin CA 94568

Location: 1108, 1109

Status: Underutilized

Comments: Off-site removal only; no future agency need; sf. varies; poor conditions; secured area; contact Army for info. on a specific property & accessibility removal requirements

7 Building Property Number: 21201330003

Parks Reserve Forces Training Area

Dublin CA 94568

Location: 200, 00974, 1080, 1085, 1100, 1101, 1176

Status: Unutilized

Comments: Sf varies; no future agency need; poor/deteriorated conditions; secured area; escort required; contact Army for more info. on a specific property & accessibility reqs./removal options

Building 4230 Property Number: 21201330010

Ord Military Community

Seaside CA 93955

Location: 4230

Status: Unutilized

Comments: 15,908 sf.; theater; vacant since 2000; 43 yes.-old; mold; lead-based paint; asbestos; contact Army for more info.

22 Buildings Property Number: 21201330019

Hwy. 101, Bldg. 109

Camp Roberts CA 93451

Location: 00902, 00936, 01019, 06079, 06080, 06125, 06320, 14212, 14308, 14801, 25012, 25013, 27108, 27110, 27126, RB001, RB003, RB004, RB005, RB006, RB007, RB043

Status: Excess

Comments: CORRECTION: Bldg. 14801 incorrectly published on 08/30/2013; off-site removal only; 6+ months vacant; poor conditions; contamination; secured area; contact Army for info.

23 Buildings Property Number: 21201330025

Hwy 101, Bldg. 109

Camp Robert CA 93451

Location: T0805, T0831, T0834, T0874, T0876, T0917, T0920, T0922, T0923, T0925, T0933, T0934, T0935, T0955, T0956, T0955, T0956, T0966, T0967, T0992, T6005, T6029, T6406, T7025, T7037

Status: Excess

Comments: Off-site removal only; sf varies; 6t months vacant; poor conditions; contamination; secured area; contact Army for more info. on a specific property & accessibility removal reqs.

11 Building Property Number: 21201330026

Fort Hunter Liggett

Fort Hunter Ligget CA 93928

Location: 0100A, 0178B, 00306, 00408, 0418A, 00850, 00851, 00932, 00945, 00946, 00947

Status: Unutilized

Comments: Off-site removal only; no future agency need; St. varies, conditions range from good to dilapidated secured area, contact Army for more info. on a specific property & accessibility/removal reqs.

7 Buildings Property Number: 21201330067

Sierra Army Depot

Herlong CA 96113

Location: 00478, 00548, 00681, 00682, 00683, 00684, and 00685

Status: Unutilized

Comments: Sf. varies, 36-204+ months vacant; fair to deteriorated; secured area; extensive background check required; contact Army for info. on a specific property & accessibility reqs.

Colorado

Building 01852 Property Number: 21201320036

6359 Barkley Ave.

Ft. Carson CO 80913

Status: Excess

Comments: Off-site removal only; 9,822 sf.; BDE HQ; repairs needed; asbestos; secured area; contact Army for access/removal requirements

Building 01854 Property Number: 21201320037

6370 Porter St.

Ft. Carson CO 80913

Status: Excess

Comments: Off-site removal only; 3,800 sf.; Admin.; repairs needed; asbestos; secured area; contact Army for access/removal requirements

Building 00304 Property Number: 21201320039

5020 Tevis St.

Ft. Carson CO 80913

Status: Excess

Comments: Off-site removal only; 15,484 sf.; Admin.; 4 months vacant; repairs needed; asbestos; contact Army for access/removal requirements

Building 01430 Property Number: 21201330028

6101 Wetzel Ave.

Fort Carson CO 80913

Status: Unutilized

Comments: Off-site removal only; no future agency use; 4t months; 41,098 sf.; admin.; maint./repairs needed; secured area; contact Army for more info. re. accessibility/removal reqs.

Georgia

Bldg. 2593 Property Number: 21199720167

Fort Benning

Ft. Benning Co: Muscogee GA 31905

Status: Unutilized

Comments: 13644 sq. ft., needs rehab, most recent use—parachute shop, off-site use only

Bldg. 4232 Property Number: 21199830291

Fort Benning

null Co: Muscogee GA 31905

Status: Unutilized

Comments: 3720 sq. ft., needs rehab, most recent use—maint. bay, off-site use only

Bldgs. 5974-5978 Property Number: 21199930135

Fort Benning

Ft. Benning Co: Muscogee GA 31905

Status: Unutilized

Comments: 400 sq. ft., most recent use—storage, off-site use only

Bldg. 5993 Property Number: 21199930136

Fort Benning

Ft. Benning Co: Muscogee GA 31905

Status: Unutilized

Comments: 960 sq. ft., most recent use—storage, off-site use only

Bldg. 3866 Property Number: 21200740182

Fort Benning

Ft. Benning GA 31905

Status: Unutilized

Comments: 944 sq. ft., most recent use—office, off-site use only

Bldg. 8682 Property Number: 21200740183

Fort Benning

Ft. Benning GA 31905

Status: Unutilized

Comments: 780 sq. ft., most recent use—admin., off-site use only

Bldg. 1201 Property Number: 21201140013

685 Horace Emmet Wilson Blvd.

Savannah GA 31409

Status: Excess

Comments: Off-site removal only; 8,736 sq. ft.; current use: Administrative office; fair conditions—bldg. need repairs; possible asbestos

10 Buildings Property Number: 21201230011

Ft. Benning

Ft. Benning GA 31905

Location: 100, 2753, 2755, 2756, 2761, 2816, 3733, 3742, 3744, 3745

Status: Unutilized

Comments: Off-site removal only; sq. varies; use: varies; poor conditions; secured area w/limited access; contact Army for details re: accessibility or specific details related to a bldg.

Building 8603 Property Number: 21201240004

Red Arrow Rd.

Ft. Benning GA 31905

Status: Unutilized

Comments: Off-site removal only; 192 sf.; Sep Toil/Shower; poor conditions; secured area; contact Army for info. on accessibility/removal

Building 8585 Property Number: 21201240005

9734 Eighth Division

Ft. Benning GA 31905

Status: Unutilized

Comments: Off-site removal only; 192 sf.; Sep Toil/Shower; poor conditions; secured area; contact Army for info. on accessibility/removal

Building 8018 Property Number: 21201240006

7964 First Division Rd.

Ft. Benning GA 31905

Status: Unutilized

Comments: Off-site removal only; 264 sf.; Sep Toil/Shower; poor conditions; secured area; contact Army for info. on accessibility/removal

Building 4156 Property Number: 21201240007

6923 Rosell St.

Ft. Benning GA 31905

Status: Unutilized

Comments: Off-site removal only; 8,460 sf.; TRANS UPH AST; poor conditions

Building 2835 Property Number: 21201240008

6498 Way Ave.

Ft. Benning GA 31905

Status: Unutilized

Comments: Off-site removal only; 2,578 sf.; BN HQ BLDG. TT; poor conditions

Building 904 Property Number: 21201310004

2022 Veterans Pkwy

Ft. Stewart GA 31314

Status: Excess

Comments: Off-site removal only; 9,993 sf.; museum; poor conditions; asbestos & lead-based paint; w/in secured area; Gov't escort required to access/remove property

Building 862 Property Number: 21201310010

259 N. Lightening Rd.

Hunter Army Airfield GA 31409

Status: Excess

Comments: Off-site removal only; 826 sf.; Battery Shop; poor conditions; w/in secured area; contact Army for info. on accessibility/removal reqs.

Building 853 Property Number: 21201310011

140 Barren Loop Rd.

Hunter Army Airfield GA 31409

Status: Excess

Comments: Off-site removal only; 4,100 sf.; Admin. 3 mons. vacant; fair conditions; w/in secured area; contact Army for accessibility/removal reqs.

Building 866 Property Number: 21201310012

395 N. Lightening Rd.

Hunter Army Airfield GA 31409

Status: Excess

Comments: Off-site removal only; 2,100 sf.; Admin.; fair conditions; w/in secured area; contact Army for info. on accessibility/removal reqs.

Building 9597 Property Number: 21201310013

Bultman Ave.

Ft. Stewart GA 31314

Status: Excess

Comments: Off-site removal only; 324 sf.; storage; 6 mons. vacant; poor conditions; w/in secured area; Gov't escort only to access/remove property

Buildings 8579 & 8580 Property Number: 21201310014

N. Perimeter Rd.

Hunter Army Airfield GA 31409

Status: Excess

Comments: Off-site removal only; sf. varies; poor conditions; w/in secured area; Gov't escort only to access/remove property

Building 8056 Property Number: 21201310015

N. Lightening Rd.

Hunter Army Airfield GA 31409

Status: Excess

Comments: Off-site removal only; 3,790 sf.; navigation bldg.; 10 mons. vacant; fair conditions; asbestos; w/in secured area; Gov't escort only to access/remove property

Buildings 7736 & 7740 Property Number: 21201310016

Chip Rd.

Ft. Stewart GA 31314

Status: Excess

Comments: Off-site removal only; sf. varies; poor conditions; w/in secured area; Gov't escort only to access/remove property

3 Buildings Property Number: 21201310017

McFarland Ave.

Ft. Stewart GA 31314

Location: 1710, 1711, 1712

Status: Excess

Comments: Off-site removal only; sf. varies; poor conditions; w/in secured area; Gov't escort only to access/remove property

Buildings 1303 & 1304 Property Number: 21201310018

Warrior Rd.

Ft. Stewart GA 31314

Status: Excess

Comments: Off-site removal only; sf. varies; poor conditions; w/in secured area; Gov't escort only to access/remove property

Building 1155 & 1156 Property Number: 21201310019

N. Lightening Rd.

Hunter Army Airfield GA 31409

Status: Excess

Comments: Off-site removal only; sf. varies; poor conditions; w/in secured area; Gov't escort only to access/remove property

Buildings 1139 & 1151 Property Number: 21201310020

Veterans Pkwy

Ft. Stewart GA 31314

Status: Excess

Comments: Off-site removal only; sf. varies; poor conditions; w/in secured area; Gov't escort only to access/remove property

Building 919 Property Number: 21201310021

574 McFarland Ave.

Ft. Stewart GA 31314

Status: Excess

Comments: Off-site removal only; 1,440 sf.; Admin. 5 mons. vacant; poor conditions; w/in secured area; Gov't escort required to access/remove property

Building 1104 Property Number: 21201310022

Frank Cochran Dr.

Hinesville GA 31314

Status: Excess

Comments: Off-site removal only; 240 sf.; storage; poor conditions; w/in secured area; Gov't escort required to access/remove property

Building 1105 Property Number: 21201310023

Veterans Pkwy

Ft. Stewart GA 31314

Status: Excess

Comments: Off-site removal only; 7,132 sf.; Maint. Facility; poor conditions; asbestos & lead; w/in secured area; Gov't escort required to access/remove property

Building 1130 Property Number: 21201310024

Veterans Pkwy

Ft. Stewart GA 31314

Status: Excess

Comments: Off-site removal only; 322 sf.; storage; poor conditions; w/in secured area; Gov't escort only to access/remove property

Building 1132 Property Number: 21201310025

Veterans Pkwy

Ft. Stewart GA 31314

Status: Excess

Comments: Off-site removal only; 182 sf.; latrine; poor conditions; w/in secured area; Gov't escort only to access/remove property

Building 1133 Property Number: 21201310026

Veterans Pkwy

Ft. Stewart GA 31314

Status: Excess

Comments: Off-site removal only; 501 sf.; latrine; poor conditions; w/in secured area; Gov't escort only to access/remove property

Building 1134 Property Number: 21201310027

Veterans Pkwy

Ft. Stewart GA 31314

Status: Excess

Comments: CORRECTION: published on 03/08/2013 incorrectly as ‘land'; off-site removal only; 513 sf. Admin. poor conditions; asbestos; w/in secured area; Gov't escort only to access/remove property

Building 00062 Property Number: 21201320003

1 Camp Merrill

Dahlonega GA 31905

Status: Unutilized

Comments: Off-site removal only; 910 sf.; sep toil/shower; poor conditions; contact Army re: removal requirements

Building 02294 Property Number: 21201320004

7895 Alekno Street

Ft. Benning GA 31905

Status: Underutilized

Comments: Off-site removal only; 5,614 sf.; classroom; poor conditions; contact Army re: removal requirements

Building OT022 Property Number: 21201330005

46 22nd Street

Fort Gordon GA 30905

Status: Unutilized

Comments: No future agency need; Off-site removal only; 960 sf.; classroom; 120 months; dilapidated; contamination; closed post; contact Army for accessibility/removal requirements

Building OT007 Property Number: 21201330006

31 22nd Street

Fort Gordon GA 30905

Status: Unutilized

Comments: Off-site removal only; no future agency need; 960 sf.; classroom; 120t months; dilapidated; contamination; closed post; contact Army for accessibility/removal reqs.

8 Building Property Number: 21201330024

Hunter Army Airfield

Hunter Army Airfield GA 31409

Location: 1031, 1160, 8054, 8055, 8080, 8082, 8084, 8629

Status: Excess

Comments: Off-site removal only; sf. varies; contamination; secured area; contact Army for info. on a specific property & accessibility/removal reqs.

3 Buildings Property Number: 21201330036

Veterans Pkwy.

Fort Stewart GA 31314

Location: 1101, 1108, 1129

Status: Excess

Comments: Off-site removal only; poor conditions; contaminating; secured area; contact Army for info. on a specific property; accessibility removal reqs.

Building 00TR4 Property Number: 21201330045

43 Pistol Range Road

Whitfield GA 30755

Status: Excess

Comments: Off-site removal only; 2,560 sf.; dining facility; 78 yrs. old; poor conditions; contact Army for more info.

Hawaii

P-88 Property Number: 21199030324

Aliamanu Military Reservation

Honolulu Co: Honolulu HI 96818

Location: Approximately 600 feet from Main Gate on Aliamanu Drive.

Status: Unutilized

Comments: 45,216 sq. ft. underground tunnel complex, pres. of asbestos clean-up required of contamination, use of respirator required by those entering property, use limitations

3377Z Property Number: 21201210054

Schofield Barracks

Wahiawa HI 96786

Status: Unutilized

Comments: Off-site removal only; 196 sf.; current use: transformer bldg.; poor conditions—needs repairs

Bldg. 00208 Property Number: 21201210078

Dillingham Military

Waialua HI

Status: Unutilized

Comments: Off-site removal only; 480 sq. ft.; recent use: hutmet

Bldg. 0300B Property Number: 21201210083

308 Paalaa Uka Pupukea

Wahiawa Co: Honolulu HI 96786

Status: Unutilized

Comments: Off-site removal only; 114 sf.; current use: valve house for water tank; fair conditions

12 Bldgs. Property Number: 21201220009

Schofield Barracks

Wahiawa HI

Location: 2509, 2510, 2511, 2512, 2513, 2514, 2516, 2517, 3030, 3031, 3032, 3035

Status: Unutilized

Comments: Off-site removal only; sf. varies; usage varies; storage; good conditions

A0300 Property Number: 21201230009

308 Paalaa Uka Pupukea Rd.

Helemano

Wahiawa HI 96786

Status: Unutilized

Comments: Off-site removal only; 17.25 × 21 ft.; water storage

2 Buildings Property Number: 21201230049

Schofield Barracks

Wahiawa HI 96786

Location: M3010, QRAMP

Status: Unutilized

Comments: Off-site removal only; sf. varies; repairs needed; secured area; contact Army re: accessibility requirements

2 Buildings Property Number: 21201230054

553/537 Airdrome Rd.

Wahiawa HI 96786

Location: 1001, 1005

Status: Unutilized

Comments: Off-site removal only; sf. varies; use: shed & shelter; poor conditions; abandoned—need repairs

Bldg. 1536 Property Number: 21201230060

Ft. Shafter

Honolulu HI 96819

Status: Unutilized

Comments: Off-site removal only; 2,117 sf. vehicle storage; need repairs

6 Properties Property Number: 21201240027

Schofield Barracks

Wahiawa HI 96786

Location: 24, 1005, 2276, B0886, M3010, QBAMP

Status: Unutilized

Comments: Off-site removal only, sf. varies; poor conditions, contact Army for information on accessibility removal and specific details on a particular property

Buildings 1421 & 1422 Property Number: 21201310046

510 CW2 Latchum Rd.

Wahiawa HI 97686

Status: Underutilized

Comments: Off-site removal only; sf. varies; office & toilet; fair conditions; military reservation

Buildings 3363, 3366, & 3371 Property Number: 21201310047

Schofield Barracks

Wahiawa HI 96786

Status: Unutilized

Comments: Off-site removal only; sf. varies; abandoned; 230 mons. vacant; transformer bldgs.

B0088 Property Number: 21201310048

Kilauea Military Reser.

HNP HI 96718

Status: Unutilized

Comments: Off-site removal only; 100 sf.; pollutant catch basin; poor conditions

D0088 Property Number: 21201310049

Schofield Barracks

HNP HI 96718

Status: Unutilized

Comments: Off-site removal only; 100 sf.; pollutant catch basin; poor conditions

Building A0750 Property Number: 21201330038

613 Ayers Ave. (Schofield Barracks)

Wahiawa HI 96786

Status: Unutilized

Comments: Off-site removal only; no future agency need; 512 sf.; storage; 46 yrs.-old; poor conditions; contact Army for more info.

Idaho

Bldg. 00110 Property Number: 21200740134

Wilder

Canyon ID 83676

Location: Tooele Army Depot

Status: Underutilized

Comments: Re-determination: off-site removal; 5,310 sf.; general admin./barracks; 12 mons. vacant; major repairs needed; asbestos; w/in restricted area; contact Army for info. on accessibility/removal reqs.

R1A11 Property Number: 21201320005

16 Miles South

Boise ID 83634

Status: Excess

Comments: Off-site removal only; 1,040 sf., dilapidated, repairs a must, temp. shelter, 9 months vacant, has hanta virus presence.

R1A13 Property Number: 21201320015

16 Miles South

Boise ID 83634

Status: Excess

Comments: Off-site removal only; 1,040 sf.; temp. shelter; 9 months vacant; dilapidated; Hanta virus; repairs a must

R1A10 Property Number: 21201320041

16 Miles South

Boise ID 83634

Status: Excess

Comments: Off-site removal only; 1,040 sf.; dilapidated; repairs a must; 9 months vacant; Hanta virus

R1A12 Property Number: 21201320042

16 Miles South

Boise ID 83634

Status: Excess

Comments: Off-site removal only; 1,040 sf.; temp. shelter; 9 months vacant; dilapidated; repairs a must; Hanta virus

R1A15 Property Number: 21201320043

16 Miles South

Boise ID 83634

Status: Excess

Comments: Off-site removal only; 1,040 sf.; temp. shelter; 9 months vacant; dilapidated; Hanta virus; repair a must

Iowa

Y11Q0 Property Number: 21201330060

Camp Dodge

Johnston IA 50131

Status: Unutilized

Comments: 3,076 sf.; family housing; 816+months vacant; deteriorated; secured area; escort required; contact Army for accessibility requirements.

Y10Q0 Property Number: 21201330061

Camp Dodge

Johnston IA 50131

Status: Unutilized

Comments: 3,076 sf.; family housing; 816+months vacant; deteriorated; secured area; escort required; contact Army for info. accessibility requirements.

2 Buildings Property Number: 21201330064

Camp Dodge

Johnston IA 50131

Location: Y1200 & TC030

Status: Unutilized

Comments: 1,686 & 1,026 sf. respectively; garage; deteriorated; secured area; escort required; contact Army for accessibility requirements.

Kansas

Building 00322 Property Number: 21201310050

Marshall Ave.

Ft. Riley KS 66442

Status: Unutilized

Comments: Off-site removal only; 6,000 sf.; Admin.; general purpose; deteriorating conditions; water damage; located on installation secured airfield; contact Army for more info.

Building 9109 Property Number: 21201310051

Mallon Rd.

Ft. Riley KS 66442

Status: Unutilized

Comments: Off-site removal only; 128 sf.; latrine; deteriorating conditions; located on controlled area; contact Army for more info.

Building 00620 Property Number: 21201320014

Mitchell Terr.

Ft. Riley KS 66442

Status: Excess

Comments: Off-site removal only; 12,640 sf.; lodging; deteriorating; asbestos

Building 09098 Property Number: 21201320016

Vinton School Rd.

Ft. Riley KS 66442

Status: Excess

Comments: Off-site removal only; 120 sf.; guard shack; fair/moderate conditions

Building 07856 Property Number: 21201320017

Drum St.

Ft. Riley KS 66442

Status: Excess

Comments: Off-site removal only; 13,493 sf.; dining facility; deteriorating; asbestos

Building 07636 Property Number: 21201320018

Normandy Dr.

Ft. Riley KS 66442

Status: Excess

Comments: Off-site removal only; 9,850 sf.; deteriorating; asbestos

Building 05309 Property Number: 21201320019

Ewell St.

Ft. Riley KS 66442

Status: Excess

Comments: Off-site removal only; 23,784 sf.; lodging; deteriorating; asbestos

Building 00918 Property Number: 21201320020

Caisson Hill Rd.

Ft. Riley KS 66442

Status: Excess

Comments: Off-site removal only; 3,536 sf.; admin. general purpose; deteriorating; possible contamination; secured area; however, prior approval to access is needed; contact Army for more info.

Building 00621 Property Number: 21201320021

Mitchell Terr.

Ft. Riley KS 66442

Status: Excess

Comments: Off-site removal only; 12, 640 sf.; lodging; deteriorating; asbestos

Kentucky

Fort Knox Property Number: 21201110011

Eisenhower Avenue

Fort Knox KY 40121

Location: Bldgs.: 06559, 06571, 06575, 06583, 06584, 06585, 06586

Status: Unutilized

Comments: Off-site removal only; multiple bldgs. w/various sq. footage (2,578-8,440 sq. ft.), current use varies (classroom—dental clinic), lead base paint, asbestos & mold identified

Fort Knox, 10 Bldgs. Property Number: 21201110012

Bacher Street

2nd Dragoons Rd & Abel St

Fort Knox KY 40121

Location: Bldgs.: 06547, 06548, 06549, 06550, 06551, 06552, 06553, 06554, 06557, 06558.

Status: Unutilized

Comments: Off-site removal only, multiple bldgs. w/various sq. footage (8,527-41,631 sq. ft.) lead base paint, asbestos & mold identified in all bldgs. Current use varies

Fort Knox, 10 Bldgs. Property Number: 21201110015

Eisenhower Ave

Fort Knox KY 40121

Location: Bldgs.: 06535, 06536, 06537, 06539, 06540, 06541, 06542, 06544, 06545, 06546

Status: Unutilized

Comments: Off-site removal only, multiple bldgs. w/various sq. ft. (2,510-78,436 sq. ft.) lead base paint, asbestos & mold has been identified in all bldgs. Current use varies

11 Bldgs. Property Number: 21201140002

Ft. Knox

Ft. Knox KY 40121

Location: 02422, 02423, 02424, 02425, 02956, 02960, 00173, 02197, 02200, 00097, 00098

Status: Unutilized

Comments: Off-site removal only; possible lead based paint, asbestos, and mold in all bldgs.; sq. ft. varies; current use: office

5 Bldgs. Property Number: 21201140003

Ft. Knox

Ft. Knox KY 40121

Location: 02317, 02323, 02324, 02349, 02421

Status: Unutilized

Comments: Off-site removal only; possible lead base paint, asbestos, and mold; sq. ft. varies; current use: office

10 Bldgs. Property Number: 21201140016

Ft. Knox

Ft. Knox KY 40121

Location: 120, 161, 166, 171, 101, 114, 115, 116, 117, 1196

Status: Unutilized

Comments: Off-site removal only; sq. ft. varies; current use: office space to storage; possible asbestos and mold

18 Bldgs. Property Number: 21201140032

Ft. Knox

Ft. Knox KY 40121

Location: 51, 52, 70, 73, 74, 76, 2961, 2963, 2964, 2969, 2970, 2971, 2972, 2973, 2974, 2975, 2979, 2316

Status: Unutilized

Comments: Off-site removal only; possible asbestos, mold, and lead base paint; sq. ft. varies; current use: office

12 Bldgs. Property Number: 21201140033

Ft. Knox

Ft. Knox KY 40121

Location: 77, 78, 80, 81, 85, 86, 92, 94, 96, 9248, 2995, 2996

Status: Unutilized

Comments: Off-site removal only; possible mold, asbestos, and lead base paint; sq. ft. varies; current use: office to storage

Bldg. 2980 Property Number: 21201140078

Ft. Knox

Ft. Knox KY 40121

Status: Unutilized

Comments: Off-site removal only; 6,900 sq. ft.; current use: office; possible asbestos and mold

Bldg. 1197 Property Number: 21201140079

Ft. Knox

Ft. Knox KY 40121

Status: Unutilized

Comments: Off-site removal only; 2,969 sq. ft.; current use: office; possible lead base paint, asbestos and mold

23 Bldgs. Property Number: 21201210034

Ft. Knox

Ft. Knox KY 40121

Location: 6097, 6098, 6099, 6113, 6114, 6115, 6116, 6118, 6120, 6121, 6123, 6124, 6614, 6615, 6616, 7107, 9209, 9215, 9231, 9254, 9256, 9361, 9619

Status: Unutilized

Comments: Off-site removal only; sq. ft. varies, current use: varies; poor conditions—need repairs; lead, mold, and asbestos identified

20 Bldgs. Property Number: 21201210035

Ft. Knox

Ft. Knox KY 40121

Location: 45, 46, 64, 75, 79, 107, 114, 155, 202, 205, 299, 1373, 1997, 2319, 2350, 3007, 6033, 6034, 6035, 6036

Status: Unutilized

Comments: Off-site removal only; sq. ft. varies, current use: varies; poor conditions—need repairs; lead, mold, and asbestos identified

5 Bldgs. Property Number: 21201210036

Ft. Knox

Ft. Knox KY 40121

Location: 6038, 6039, 6040, 6093, 6094

Status: Unutilized

Comments: Off-site removal only; sq. ft. varies, current use: varies; poor conditions—need repairs; lead, mold, and asbestos identified

22 Bldgs. Property Number: 21201220020

Ft. Knox

Ft. Knox KY 40121

Location: 79, 204, 1610, 1996, 2955, 2959, 2965, 2980, 2991, 6531, 6533, 6560, 6561, 6563, 6564, 6565, 6566, 6592, 6594, 9183, 9319, 9320

Status: Unutilized

Comments: Off-site removal only; sf varies; usage varies; need repairs; lead and asbestos identified; need remediation

15 Buildings Property Number: 21201230030

Ft. Knox

Ft. Knox KY 40121

Location: 2991, 3006, 6127, 7345, 7346, 9254, 9264, 9294, 9302, 9311, 9315, 9335, 9427, 9503, 9504

Status: Unutilized

Comments: Use: Maintenance; extremely poor conditions; contamination identified; contact Army for further details & accessibility requirements

10 Buildings Property Number: 21201230031

Ft. Knox

Ft. Knox KY 40121

Location: 9505, 9506, 9507, 9508, 9509, 9617, 9675, 9681, 9706, 9707

Status: Unutilized

Comments: Sf. varies; extremely poor conditions; contamination identified; contact Army for further details & accessibility requirements

Louisiana

B-8248 Property Number: 21201210069

Ft. Polk

Ft. Polk LA 71459

Status: Underutilized

Comments: 3,141 sf.; current use: Admin. Bldg.; poor conditions-need repairs

B-8401 Property Number: 21201210070

Ft. Polk

Ft. Polk LA 71459

Status: Underutilized

Comments: 3,141 sf.; current use: Admin. Bldg.; poor conditions-need repairs

21 Buildings Property Number: 21201230034

Polk

Ft. Polk LA 71459

Location: 9515, 9537, 9554, 9570, 9593, 9594, 9601, 9602, 9603, 9604, 9607, 9609, 9618, 9619, 9666, 9703, 9741, 9744, 9751, 9753, 9755

Status: Underutilized

Comments: Off-site removal only; sf. varies; use: varies; poor conditions; contact Army for further details re: a specific property

18 Buildings Property Number: 21201230035

Polk

Ft. Polk LA 71459

Location: 9764, 9765, 9773, 9793, 9794, 9797, 9803, 9812, 9818, 9830, 9836, 9837, 9840, 9854, 9913, 9914, 9917, 9920

Status: Underutilized

Comments: Off-site removal only; sq. ft. varies; use: varies; poor conditions; contact Army for further details re: a specific property

7 Building Property Number: 21201330044

Fort Polk

Fort Polk LA 71459

Location: 00916, 03313, 03314, 03315, 3316, 3320, 3323

Status: Underutilized

Comments: Off-site removal only; sf. varies; no future agency need; poor conditions; contact Army for more info. on a specific property & removal reqs.

13 Buildings Property Number: 21201330056

Fort Polk

Fort Polk LA 71459

Location: 3335, 3341, 3342, 3344, 3348, 4798, 7144, 7192, 7193, 7194, 7199, 08091, 8092

Status: Underutilized

Comments: Off-site removal only; no future agency need; sf. varies; storage to picnic/rec. shelter; poor conditions; contact Army for more info. on a specific property and removal requirements

Maryland

Bldg. 0459B Property Number: 21200120106

Aberdeen Proving Ground

Aberdeen Co: Harford MD 21005-5001

Status: Unutilized

Comments: 225 sq. ft., poor condition, most recent use—equipment bldg., Off-site use only

Bldg. E5239 Property Number: 21200120113

Aberdeen Proving Ground

Aberdeen Co: Harford MD 21005-5001

Status: Unutilized

Comments: 230 sq. ft., most recent use—storage, Off-site use only

Bldg. E5317 Property Number: 21200120114

Aberdeen Proving Ground

Aberdeen Co: Harford MD 21005-5001

Status: Unutilized

Comments: 3158 sq. ft., presence of asbestos/lead paint, most recent use—lab, Off-site use only

Bldg. E5637 Property Number: 21200120115

Aberdeen Proving Ground

Aberdeen Co: Harford MD 21005-5001

Status: Unutilized

Comments: 312 sq. ft., presence of asbestos/lead paint, most recent use—lab, Off-site use only

Bldg. 219 Property Number: 21200140078

Ft. George G. Meade

Ft. Meade Co: Anne Arundel MD 20755

Status: Unutilized

Comments: 8142 sq. ft., presence of asbestos/lead paint, most recent use—admin., Off-site use only

Bldg. 0385A Property Number: 21200320110

Aberdeen Proving Grounds

Aberdeen Co: Harford MD 21005

Status: Unutilized

Comments: 944 sq. ft., Off-site use only

Bldg. 0700B Property Number: 21200320121

Aberdeen Proving Grounds

Aberdeen Co: Harford MD 21005

Status: Unutilized

Comments: 505 sq. ft., Off-site use only

Bldg. 05262 Property Number: 21200320136

Aberdeen Proving Grounds

Aberdeen Co: Harford MD 21005

Status: Unutilized

Comments: 864 sq. ft., most recent use—storage, Off-site use only

Bldg. 05608 Property Number: 21200320137

Aberdeen Proving Grounds

Aberdeen Co: Harford MD 21005

Status: Unutilized

Comments: 1100 sq. ft., most recent use—maint bldg., Off-site use only

Bldg. E5645 Property Number: 21200320150

Aberdeen Proving Grounds

Aberdeen Co: Harford MD 21005

Status: Unutilized

Comments: 548 sq. ft., most recent use—storage, Off-site use only

Bldg. 0449A Property Number: 21200330112

Aberdeen Proving Grounds

Aberdeen Co: Harford MD 21005

Status: Unutilized

Comments: 143 sq. ft., needs rehab, most recent use—substation switch bldg., Off-site use only

Bldg. E1413 Property Number: 21200330127

Aberdeen Proving Grounds

Aberdeen Co: Harford MD 21005

Status: Unutilized

Comments: Needs rehab, most recent use—observation tower, Off-site use only

Bldg. E3175 Property Number: 21200330134

Aberdeen Proving Grounds

Aberdeen Co: Harford MD 21005

Status: Unutilized

Comments: 1296 sq. ft., needs rehab, most recent use—hazard bldg., Off-site use only

4 Bldgs. Property Number: 21200330135

Aberdeen Proving Grounds

Aberdeen Co: Harford MD 21005

Location: E3224, E3228, E3230, E3232, E3234

Status: Unutilized

Comments: sq. ft. varies, needs rehab, most recent use—lab test bldgs., Off-site use only

Bldg. E3241 Property Number: 21200330136

Aberdeen Proving Grounds

Aberdeen Co: Harford MD 21005

Status: Unutilized

Comments: 592 sq. ft., needs rehab, most recent use—medical res bldg., Off-site use only

Bldg. E3300 Property Number: 21200330139

Aberdeen Proving Grounds

Aberdeen Co: Harford MD 21005

Status: Unutilized

Comments: 44,352 sq. ft., needs rehab, most recent use—chemistry lab, off-site use only

Bldg. E3335 Property Number: 21200330144

Aberdeen Proving Grounds

Aberdeen Co: Harford MD 21005

Status: Unutilized

Comments: 400 sq. ft., needs rehab, most recent use—storage, off-site use only

Bldgs. E3360, E3362, E3464 Property Number: 21200330145

Aberdeen Proving Grounds

Aberdeen Co: Harford MD 21005

Status: Unutilized

Comments: 3588/236 sq. ft., needs rehab, most recent use—storage, off-site use only

Bldg. E3542 Property Number: 21200330148

Aberdeen Proving Grounds

Aberdeen Co: Harford MD 21005

Status: Unutilized

Comments: 1146 sq. ft., needs rehab, most recent use—lab test bldg., off-site use only

Bldg. E4420 Property Number: 21200330151

Aberdeen Proving Grounds

Aberdeen Co: Harford MD 21005

Status: Unutilized

Comments: 14,997 sq. ft., needs rehab, most recent use—police bldg., off-site use only

4 Bldgs. Property Number: 21200330154

Aberdeen Proving Grounds

Aberdeen Co: Harford MD 21005

Location: E5005, E5049, E5050, E5051

Status: Unutilized

Comments: sq. ft. varies, needs rehab, most recent use—storage, off-site use only

Bldg. E5068 Property Number: 21200330155

Aberdeen Proving Grounds

Aberdeen Co: Harford MD 21005

Status: Unutilized

Comments: 1200 sq. ft., needs rehab, most recent use—fire station, off-site use only

Bldgs. 05448, 05449 Property Number: 21200330161

Aberdeen Proving Grounds

Aberdeen Co: Harford MD 21005

Status: Unutilized

Comments: 6431 sq. ft., needs rehab, most recent use—enlisted UHP, off-site use only

Bldg. 05450 Property Number: 21200330162

Aberdeen Proving Grounds

Aberdeen Co: Harford MD 21005

Status: Unutilized

Comments: 2730 sq. ft., needs rehab, most recent use—admin., off-site use only

Bldgs. 05451, 05455 Property Number: 21200330163

Aberdeen Proving Grounds

Aberdeen Co: Harford MD 21005

Status: Unutilized

Comments: 2730/6431 sq. ft., needs rehab, most recent use—storage, off-site use only

Bldg. 05453 Property Number: 21200330164

Aberdeen Proving Grounds

Aberdeen Co: Harford MD 21005

Status: Unutilized

Comments: 6431 sq. ft., needs rehab, most recent use—admin., off-site use only

Bldg. E5609 Property Number: 21200330167

Aberdeen Proving Grounds

Aberdeen Co: Harford MD 21005

Status: Unutilized

Comments: 2053 sq. ft., needs rehab, most recent use—storage, off-site use only

Bldg. E5611 Property Number: 21200330168

Aberdeen Proving Grounds

Aberdeen Co: Harford MD 21005

Status: Unutilized

Comments: 11,242 sq. ft., needs rehab, most recent use—hazard bldg., off-site use only

Bldg. E5634 Property Number: 21200330169

Aberdeen Proving Grounds

Aberdeen Co: Harford MD 21005

Status: Unutilized

Comments: 200 sq. ft., needs rehab, most recent use—flammable storage, off-site use only

Bldg. E5654 Property Number: 21200330171

Aberdeen Proving Grounds

Aberdeen Co: Harford MD 21005

Status: Unutilized

Comments: 21,532 sq. ft., needs rehab, most recent use—storage, off-site use only

Bldg. E5942 Property Number: 21200330176

Aberdeen Proving Grounds

Aberdeen Co: Harford MD 21005

Status: Unutilized

Comments: 2147 sq. ft., needs rehab, most recent use—igloo storage, off-site use only

Bldgs. E5952, E5953 Property Number: 21200330177

Aberdeen Proving Grounds

Aberdeen Co: Harford MD 21005

Status: Unutilized

Comments: 100/24 sq. ft., needs rehab, most recent use—compressed air bldg., off-site use only

Bldgs. E7401, E7402 Property Number: 21200330178

Aberdeen Proving Grounds

Aberdeen Co: Harford MD 21005

Status: Unutilized

Comments: 256/440 sq. ft., needs rehab, most recent use—storage, off-site use only

Bldg. E7407, E7408 Property Number: 21200330179

Aberdeen Proving Grounds

Aberdeen Co: Harford MD 21005

Status: Unutilized

Comments: 1078/762 sq. ft., needs rehab, most recent use—decon facility, off-site use only

Bldg. 3070A Property Number: 21200420055

Aberdeen Proving Ground

Harford MD 21005

Status: Unutilized

Comments: 2299 sq. ft., most recent use—heat plant, off-site use only

Bldg. E5026 Property Number: 21200420056

Aberdeen Proving Ground

Harford MD 21005

Status: Unutilized

Comments: 20,536 sq. ft., most recent use—storage, off-site use only

Bldg. 05261 Property Number: 21200420057

Aberdeen Proving Ground

Harford MD 21005

Status: Unutilized

Comments: 10067 sq. ft., most recent use—maintenance, off-site use only

Bldg. E5876 Property Number: 21200440073

Aberdeen Proving Grounds

Aberdeen Co: Harford MD 21005

Status: Unutilized

Comments: 1192 sq. ft., needs rehab, most recent use—storage, off-site use only

Bldgs. E1410, E1434 Property Number: 21200720056

Aberdeen Proving Ground

Harford MD 21005

Status: Unutilized

Comments: 2276/3106 sq. ft., most recent use—laboratory, off-site use only

Bldg. E3834 Property Number: 21200720058

Aberdeen Proving Ground

Harford MD 21005

Status: Unutilized

Comments: 72 sq. ft., most recent use—office, off-site use only

Bldgs. E4465, E4470, E4480 Property Number: 21200720059

Aberdeen Proving Ground

Harford MD 21005

Status: Unutilized

Comments: 17658/16876/17655 sq. ft., most recent use—office, off-site use only

Bldgs. E5137, 05219 Property Number: 21200720060

Aberdeen Proving Ground

Harford MD 21005

Status: Unutilized

Comments: 3700/8175 sq. ft., most recent use—office, off-site use only

Bldg. E5236 Property Number: 21200720061

Aberdeen Proving Ground

Harford MD 21005

Status: Unutilized

Comments: 10,325 sq. ft., most recent use—storage, off-site use only

Bldg. E5282 Property Number: 21200720062

Aberdeen Proving Ground

Harford MD 21005

Status: Unutilized

Comments: 4820 sq. ft., most recent use—hazard bldg., off-site use only

Bldgs. E5736, E5846, E5926 Property Number: 21200720063

Aberdeen Proving Ground

Harford MD 21005

Status: Unutilized

Comments: 1069/4171/11279 sq. ft., most recent use—storage, off-site use only

Bldg. E6890 Property Number: 21200720064

Aberdeen Proving Ground

Harford MD 21005

Status: Unutilized

Comments: 1 sq. ft., most recent use—impact area, off-site use only

E1043 Property Number: 21200820083

Aberdeen Proving Ground

Harford MD

Status: Unutilized

Comments: 5200 sq. ft., most recent use—lab, off-site use only

Bldg. E1386 Property Number: 21200820086

Aberdeen Proving Ground

Harford MD

Status: Unutilized

Comments: 251 sq. ft., most recent use—eng/mnt, off-site use only

5 Bldgs. Property Number: 21200820087

Aberdeen Proving Ground

Harford MD

Location: E1440, E1441, E1443, E1445, E1455

Status: Unutilized

Comments: 112 sq. ft., most recent use—safety shelter, off-site use only

Bldgs. E1467, E1485 Property Number: 21200820088

Aberdeen Proving Ground

Harford MD

Status: Unutilized

Comments: 160/800 sq. ft., most recent use—storage, off-site use only

Bldg. E1521 Property Number: 21200820090

Aberdeen Proving Ground

Harford MD

Status: Unutilized

Comments: 1200 sq. ft., most recent use—overhead protection, off-site use only

Bldg. E1570 Property Number: 21200820091

Aberdeen Proving Ground

Harford MD

Status: Unutilized

Comments: 47027 sq. ft., most recent use—office, off-site use only

Bldg. E1572 Property Number: 21200820092

Aberdeen Proving Ground

Harford MD

Status: Unutilized

Comments: 1402 sq. ft., most recent use—maint. off-site use only

4 Bldgs. Property Number: 21200820093

Aberdeen Proving Ground

Harford MD

Location:

E1645, E1675, E1677, E1930

Status: Unutilized

Comments: various sq. ft., most recent use—office, off-site use only

Bldgs. E2160, E2184, E2196 Property Number: 21200820094

Aberdeen Proving Ground

Harford MD

Status: Unutilized

Comments: 12440/13816 sq. ft., most recent use—storage, off-site use only

Bldg. E2174 Property Number: 21200820095

Aberdeen Proving Ground

Harford MD

Status: Unutilized

Comments: 132 sq. ft., off-site use only

Bldg. 2831A Property Number: 21200820102

Aberdeen Proving Ground

Harford MD

Status: Unutilized

Comments: 1200 sq. ft., most recent use—overhead protection, off-site use only

Bldg. E3466 Property Number: 21200820104

Aberdeen Proving Ground

Aberdeen MD

Status: Unutilized

Comments: 236 sq. ft., most recent use—protective barrier, off-site use only

4 Bldgs. Property Number: 21200820105

Aberdeen Proving Ground

Harford MD

Location: E3510, E3570, E3640, E3832

Status: Unutilized

Comments: Various sq. ft., most recent use—lab, off-site use only

Bldg. E3544 Property Number: 21200820106

Aberdeen Proving Ground

Harford MD

Status: Unutilized

Comments: 5400 sq. ft., most recent use—ind waste, off-site use only

Bldg. 3823A Property Number: 21200820109

Aberdeen Proving Ground

Harford MD

Status: Unutilized

Comments: 113 sq. ft., most recent use—shed, off-site use only

Bldg. E3948 Property Number: 21200820110

Aberdeen Proving Ground

Harford MD

Status: Unutilized

Comments: 3420 sq. ft., most recent use—emp chg fac, off-site use only

4 Bldgs. Property Number: 21200820111

Aberdeen Proving Ground

Harford MD

Location: E5057, E5058, E5246, 05258

Status: Unutilized

Comments: Various sq. ft., most recent use—storage, off-site use only

Bldgs. E5106, 05256 Property Number: 21200820112

Aberdeen Proving Ground

Harford MD

Status: Unutilized

Comments: 18621/8720 sq. ft., most recent use—office, off-site use only

Bldg. E5126 Property Number: 21200820113

Aberdeen Proving Ground

Harford MD

Status: Unutilized

Comments: 17664 sq. ft., most recent use—heat plt, off-site use only

Bldg. E5128 Property Number: 21200820114

Aberdeen Proving Ground

Harford MD

Status: Unutilized

Comments: 3750 sq. ft., most recent use—substation, off-site use only

Bldg. E5188 Property Number: 21200820115

Aberdeen Proving Ground

Harford MD

Status: Unutilized

Comments: 22790 sq. ft., most recent use—lab, off-site use only

Bldg. E5179 Property Number: 21200820116

Aberdeen Proving Ground

Harford MD

Status: Unutilized

Comments: 47335 sq. ft., most recent use—info sys, off-site use only

Bldg. E5190 Property Number: 21200820117

Aberdeen Proving Ground

Harford MD

Status: Unutilized

Comments: 874 sq. ft., most recent use—storage, off-site use only

Bldg. 05223 Property Number: 21200820118

Aberdeen Proving Ground

Harford MD

Status: Unutilized

Comments: 6854 sq. ft., most recent use—gen rep inst, off-site use only

Bldgs. 05259, 05260 Property Number: 21200820119

Aberdeen Proving Ground

Harford MD

Status: Unutilized

Comments: 10067 sq. ft., most recent use—maint, off-site use only

Bldgs. 05263, 05264 Property Number: 21200820120

Aberdeen Proving Ground

Harford MD

Status: Unutilized

Comments: 200 sq. ft., most recent use—org space, off-site use only

5 Bldgs. Property Number: 21200820121

Aberdeen Proving Ground

Harford MD

Location: 05267, E5294, E5327, E5441, E5485

Status: Unutilized

Comments: Various sq. ft., most recent use—storage, off-site use only

Bldg. E5292 Property Number: 21200820122

Aberdeen Proving Ground

Harford MD

Status: Unutilized

Comments: 1166 sq. ft., most recent use—comp rep inst, off-site use only

Bldg. E5380 Property Number: 21200820123

Aberdeen Proving Ground

Harford MD

Status: Unutilized

Comments: 9176 sq. ft., most recent use—lab, off-site use only

Bldg. E5452 Property Number: 21200820124

Aberdeen Proving Ground

Harford MD

Status: Unutilized

Comments: 9623 sq. ft., off-site use only

Bldg. 05654 Property Number: 21200820125

Aberdeen Proving Ground

Harford MD

Status: Unutilized

Comments: 38 sq. ft. most recent use—shed, off-site use only

Bldg. 05656 Property Number: 21200820126

Aberdeen Proving Ground

Harford MD

Status: Unutilized

Comments: 2240 sq. ft., most recent use—overhead protection off-site use only

5 Bldgs. Property Number: 21200820127

Aberdeen Proving Ground

Harford MD

Location: E5730, E5738, E5915, E5928, E6875

Status: Unutilized

Comments: Various sq. ft., most recent use—storage, off-site use only

Bldg. E5840 Property Number: 21200820129

Aberdeen Proving Ground

Harford MD

Status: Unutilized

Comments: 14200 sq. ft., most recent use—lab, off-site use only

Bldg. E6872 Property Number: 21200820131

Aberdeen Proving Ground

Harford MD

Status: Unutilized

Comments: 1380 sq. ft., most recent use—dispatch, off-site use only

Bldgs. E7331, E7332, E7333 Property Number: 21200820132

Aberdeen Proving Ground

Harford MD

Status: Unutilized

Comments: Most recent use—protective barrier, off-site use only

Bldg. E7821 Property Number: 21200820133

Aberdeen Proving Ground

Harford MD

Status: Unutilized

Comments: 3500 sq. ft., most recent use—xmitter bldg., off-site use only

Bldg. 06186 Property Number: 21201110026

Ft. Detrick

Frederick MD 21702

Status: Unutilized

Comments: Off-site removal only, 14,033 sq. ft., current use: communications ctr., bldg. not energy efficient but fair condition

Bldg. 01692 Property Number: 21201110028

Ft. Detrick

Frederick MD 21702

Status: Unutilized

Comments: Off-site removal only, 1,000 sq., current use; communications ctr., bldg. is not energy efficient but in fair condition

10 Bldgs. Property Number: 21201210016

Aberdeen Proving Ground

Aberdeen MD 21005

Location: E3266, E3268, E3269, E3299, E3300, E3305, E3306, E3326, E3344, E3500

Status: Unutilized

Comments: Off-site removal only; sq. ft. varies; current use: varies; lead and asbestos identified; moderate conditions

10 Bldgs. Property Number: 21201210017

Aberdeen Proving Ground

Aberdeen MD 21005

Location: E3507, E3514, E3516, E3520, E3522, E3524, E3525, E3549, E3550, E3552

Status: Unutilized

Comments: Off-site removal only; sq. ft. varies; current use: varies; lead and asbestos identified; moderate conditions

10 Bldgs. Property Number: 21201210018

Aberdeen Proving Ground

Aberdeen MD 21005

Location: E3570, E3573, E3607, E3615, E3623, E3646, E4405, E4410, E4415, E4420

Status: Unutilized

Comments: Off-site removal only; sq. ft. varies; current use: varies; lead and asbestos identified; moderate conditions

11 Bldgs. Property Number: 21201210019

Aberdeen Proving Ground

Aberdeen MD 21005

Location: E4430, E4435, E4440, E4445, E4460, E4465, E4470, E4475, E4480, E5027

Status: Unutilized

Comments: Off-site removal only; sq. ft. varies; current use: varies; lead and asbestos identified; moderate conditions

10 Bldgs. Property Number: 21201210020

Aberdeen Proving ground

Aberdeen MD 21005

Location: E5106, E5135, E5141, E5158, E5164, E5165, E5188, E5342, E5354, E5356

Status: Unutilized

Comments: Off-site removal only; sq. ft. varies; current use: varies; lead and asbestos identified; moderate conditions

9 Bldgs. Property Number: 21201210021

Aberdeen Proving Ground

Aberdeen MD 21005

Location: E5365, E5425, E5427, E5429, E5643, E5684, E5686, E5687, E5725

Status: Unutilized

Comments: Off-site removal only; sq. ft. varies; current use: varies; lead and asbestos identified; moderate conditions

9 Bldgs. Property Number: 21201210022

Aberdeen Proving Ground

Aberdeen MD 21005

Location: E5771, E5772, E5774, E5779, E5782, E5800, E5804, E5824, E5872

Status: Unutilized

Comments: Off-site removal only; sq. ft. varies; current use: varies; lead and asbestos identified; moderate conditions

7 Bldgs. Property Number: 21201210023

Aberdeen Proving Ground

Aberdeen MD 21005

Location: E5910, E5911, E5912, E5913, E5914, E5932, E5940

Status: Unutilized

Comments: Off-site removal only; sq. ft. varies; current use: varies; lead and asbestos identified; moderate conditions

13 Bldgs. Property Number: 21201210028

Aberdeen Proving Ground

Aberdeen MD 21005

Location: E3236, E3107, E3109, E3156, E3221, E3222, E3223, E3224, E3226, E3230, E3232, E3234, E3265

Status: Unutilized

Comments: Off-site removal only; sq. ft. varies; current use: varies; lead and asbestos identified; moderate conditions

8 Bldgs. Property Number: 21201210029

Aberdeen Proving Ground

Aberdeen MD 21005

Location: E1890, E1936, E1946, E1950, E1958, E2100, E2101, E2105

Status: Unutilized

Comments: Off-site removal only; sq. ft. varies; current use: varies; lead and asbestos identified; moderate conditions

11 Bldgs. Property Number: 21201210030

Aberdeen Proving Ground

Aberdeen MD 21005

Location: E2309, E2400, E2580, E3081, E3083, E3100, E3101, E3103, E3104, E3105, E3106

Status: Unutilized

Comments: Off-site removal only; sq. ft. varies; current use: varies; lead and asbestos identified; moderate conditions

Bldg. 724B Property Number: 21201220003

Aberdeen Proving Ground

Aberdeen MD 21005

Status: Unutilized

Comments: Off-site removal only; 1 sf.; current use: safety shelter; moderate conditions; lead & asbestos identified; need remediation

E6001 Property Number: 21201310058

Aberdeen Proving Ground

Aberdeen MD 21005

Status: Unutilized

Comments: Off-site removal only; 527 sf.; security gate house; deteriorated

3 Buildings Property Number: 21201310061

Ft. George G. Meade

Ft. Meade MD 20755

Location: 08475, 8487, 09830

Status: Unutilized

Comments: Off-site removal only; sf. varies; poor conditions; restricted area; contact Army for accessibility/removal reqs.

5 Buildings Property Number: 21201330008

Ft. George G. Meade

Ft. Meade MD 20755

Location: 4, 239, 700, 2790, 8608

Status: Unutilized

Comments: Off-site removal only; no future agency need; sf. varies; fair to deteriorating conditions; secured area; contact Army re. info. on a specific property & accessibility/removal reqs.

Land

2 acres Property Number: 21200640095

Fort Meade

Odenton Rd/Rt 175

Ft. Meade MD 20755

Status: Unutilized

Comments: Light industrial

16 acres Property Number: 21200640096

Fort Meade

Rt 198/Airport Road

Ft. Meade MD 20755

Status: Unutilized

Comments: Light industrial

E6000 & E6100 Property Number: 21201310063

Aberdeen Proving Ground

Aberdeen MD 21005

Status: Unutilized

Comments: Water dam currently located on properties; restricted area; contact Army for more information regarding properties

LANDE Property Number: 21201310064

Aberdeen Proving Ground

Aberdeen MD 21005

Status: Unutilized

Comments:

Minnesota

Building

18 Bldgs. Property Number: 21201210059

1245 Hwy 96 West

Arden Hills Army TRNG Site

Arden Hills MN 55112

Location: 12155, 12156, 12157, 01200, 01201, 01202, 01203, 01204, 01205, 01206, 04202, 11218, 11219, 11220, 11221, 11222, 11223, 04203

Status: Unutilized

Comments: Off-site removal only; sf. varies; current use: storage; poor conditions—need repairs

Missouri

Bldg. T1497 Property Number: 21199420441

Fort Leonard Wood

Ft. Leonard Wood Co

Pulaski MO 65473-5000

Status: Underutilized

Comments: 4720 sq. ft., 2-story, presence of lead base paint, most recent use—admin/gen. purpose, Off-site use only

Bldg. T2139 Property Number: 21199420446

Fort Leonard Wood

Ft. Leonard Wood Co: Pulaski MO 65473-5000

Status: Underutilized

Comments: 3663 sq. ft., 1-story, presence of lead base paint, most recent use—admin/gen. purpose, off-site use only

Bldg. T2385 Property Number: 21199510115

Fort Leonard Wood

Ft. Leonard Wood Co: Pulaski MO 65473

Status: Excess

Comments: 3158 sq. ft., 1-story, wood frame, most recent use—admin., to be vacated 8/95, off-site use only

Bldg. 2167 Property Number: 21199820179

Fort Leonard Wood

Ft. Leonard Wood Co: Pulaski MO 65473-5000

Status: Unutilized

Comments: 1296 sq. ft., presence of asbestos/lead paint, most recent use—admin., off-site use only

Bldgs. 2192, 2196, 2198 Property Number: 21199820183

Fort Leonard Wood

Ft. Leonard Wood Co: Pulaski MO 65473-5000

Status: Unutilized

Comments: 4720 sq. ft., presence of asbestos/lead paint, most recent use—barracks, off-site use only

12 Bldgs. Property Number: 21200410110

Fort Leonard Wood

Ft. Leonard Wood Co: Pulaski MO 65743-8944

Location: 07036, 07050, 07054, 07102, 07400, 07401, 08245, 08249, 08251, 08255, 08257, 08261.

Status: Unutilized

Comments: 7152 sq. ft. 6 complex housing quarters, potential contaminants, off-site use only

6 Bldg. Property Number: 21200410111

Fort Leonard Wood

Ft. Leonard Wood Co: Pulaski MO 65743-8944

Location: 07044, 07106, 07107, 08260, 08281, 08300

Status: Unutilized

Comments: 9520 sq. ft., 8 complex housing quarters, potential contaminants, off-site use only.

15 Bldgs. Property Number: 21200410112

Fort Leonard Wood

Ft. Leonard Wood Co: Pulaski MO 65743-8944

Location: 08242, 08243, 08246-08248, 08250, 08252-08254, 08256, 08258-08259, 08262-08263, 08265

Status: Unutilized

Comments: 4784 sq. ft., 4 complex housing quarters, potential contaminants, off-site use only

Bldgs. 08283, 08285 Property Number: 21200410113

Fort Leonard Wood

Ft. Leonard Wood Co: Pulaski MO 65743-8944

Status: Unutilized

Comments: 2240 sq. ft., 2 complex housing quarters, potential contaminants, off-site use only

15 Bldgs. Property Number: 21200410114

Fort Leonard Wood

Ft. Leonard Wood Co: Pulaski MO 65743-0827

Location: 08267, 08269, 08271, 08273, 08275, 08277, 08279, 08290 08296, 08301

Status: Unutilized

Comments: 4784 sq. ft., 4 complex housing quarters, potential contaminants, off-site use only

Bldg. 09432 Property Number: 21200410115

Fort Leonard Wood

Ft. Leonard Wood Co: Pulaski MO 65743-8944

Status: Unutilized

Comments: 8724 sq. ft., 6-plex housing quarters, potential contaminants, off-site use only

Bldgs. 5006 and 5013 Property Number: 21200430064

Fort Leonard Wood

Ft. Leonard Wood Co: Pulaski MO 65743-8944

Status: Unutilized

Comments: 192 sq. ft., needs repair, most recent use—generator bldg., off-site use only

Bldgs. 13210, 13710 Property Number: 21200430065

Fort Leonard Wood

Ft. Leonard Wood Co: Pulaski MO 65743-8944

Status: Unutilized

Comments: 144 sq. ft. each, needs repair, most recent use—communication, off-site use only

Montana

Bldg. 00405 Property Number: 21200130099

Fort Harrison

Ft. Harrison Co: Lewis/Clark MT 59636

Status: Unutilized

Comments: 3467 sq. ft., most recent use—storage, security limitations

Bldg. T0066 Property Number: 21200130100

Fort Harrison

Ft. Harrison Co: Lewis/Clark MT 59636

Status: Unutilized

Comments: 528 sq. ft., needs rehab, presence of asbestos, security limitations

Nevada

25 Buildings Property Number: 21201330062

Hawthorne Army Depot

Hawthorne NV 89415

Location: 400, 401, 402, 403, 404, 405, 406, 407, 408, 409, 410, 411, 412, 413, 414, 415, 416, 417, 418, 419, 420, 421, 422, 423, 424

Status: Unutilized

Comments: Off-site removal only; no future agency use; prior authorization; secured area; contact Army on a specific property & accessibility removal reqs.

00A99 Property Number: 21201330063

Hawthorne Army Depot

Hawthorne NV 89415

Status: Excess

Comments: 700 sf.; storage; 42 yrs. old; structural damage; asbestos & lead; prior authorization required; contact Army for info. on accessibility & removal reqs.

00A99 Property Number: 21201330065

Hawthorne Army Depot

Hawthorne Army Depot NV 89415

Status: Excess

Comments: 700 sf.; storage; 42 yrs. old; structural damage; asbestos & lead; prior authorization required; contact Army for info. on accessibility & removal reqs.

7 Building Property Number: 21201330068

Hawthorne Army Depot

Hawthorne NV 89415

Location: 00A18, 00A25, 00A42, 0A368, 0A671, 86BT4, 00375

Status: Unutilized

Comments: Sf. varies; asbestos & lead; secured area; prior authorization required; contact Army for more info. on a specific property listed and accessibility requirements.

New Jersey

7 Bldgs. Property Number: 21201210038

Picatinny Arsenal

Dover NJ 07806

Location: 75, 99, 281, 332, 614, 615, 623

Status: Unutilized

Comments: Off-site removal only; sq. ft. varies, current use: varies; poor conditions- need repairs; contamination-needs remediation

4 Bldgs. Property Number: 21201220011

Picatinny Arsenal

Dover NJ 07806

Location: 1179, 1179A, 1179C, 1179D

Status: Unutilized

Comments: Off-site removal only; sf varies; usage varies; need repairs; contamination; remediation required; secured area; need prior approval to access property; contact Army for more details

4 Building Property Number: 21201240026

Route 15 North

Picatinny Arsenal NJ 07806

Location: 3701, 3702, 3706, 3709

Status: Unutilized

Comments: Off-site removal only, sq. varies, moderate conditions, restricted area; contact Army for information on accessibility removal and specific details on a particular property

Building 00063 Property Number: 21201310039

Picatinny Arsenal

Picatinny Arsenal NJ 07806

Status: Underutilized

Comments: Off-site removal only; 44,000 sf.; storage; very poor conditions; w/in secured area; contact Army for accessibility/removal requirements

Building 01186 Property Number: 21201310040

Pictinny Arsenal

Dover NJ 07806

Status: Unutilized

Comments: Off-site removal only; 192 sf.; storage; very poor conditions; w/in restricted area; contact Army for info. on accessibility/removal requirements

4 Buildings Property Number: 21201310041

Rt. 15 North

Picatinny Arsenal NJ 07806

Location: 03704, 03705, 03707, 03708

Status: Unutilized

Comments: Off-site removal only; 768 sf.; recreational billets; 12 mons. vacant; moderate; w/in secured area; contact Army for accessibility/removal requirements

Building 03703 Property Number: 21201310065

Rt. 15 North

Picatinny Arsenal NJ 07806

Status: Unutilized

Comments: Off-site removal only; 768 sf.; recreational billets; moderate conditions; secured military installation; contact Army for accessibility/removal reqs.

Building 03223 Property Number: 21201330046

Picatinny Arsenal

Dover NJ 07806-5000

Status: Unutilized

Comments: Off-site removal only; no future agency need; 312 sf.; 102 yrs.-old; poor conditions; secured area; contact Army for more info.

New York

Bldg.1227 Property Number: 21200440074

U.S. Military Academy

Highlands Co: Orange NY 10996-1592

Status: Unutilized

Comments: 3800 sq. ft., needs repair, possible asbestos/lead paint, most recent use—maintenance, off-site use only

Bldg. 2218 Property Number: 21200510067

Stewart Newburg USARC

New Windsor Co: Orange NY 12553-9000

Status: Unutilized

Comments: 32,000 sq. ft., poor condition, requires major repairs, most recent use—storage/services

7 Bldgs. Property Number: 21200510068

Stewart Newburg USARC

New Windsor Co: Orange NY 12553-9000

Location: 2122, 2124, 2126, 2128, 2106, 2108, 2104

Status: Unutilized

Comments: Sq. ft. varies, poor condition, needs major repairs, most recent use—storage/services

Bldg. 1230 Property Number: 21200940014

U.S. Army Garrison

Orange NY 10996

Status: Unutilized

Comments: 4538 sq. ft., possible asbestos/lead paint, most recent use—clubhouse, off-site use only

Bldg. 4802 Property Number: 21201010019

Fort Drum

Jefferson NY 13602

Status: Unutilized

Comments: 3300 sq. ft., most recent use—hdgts. facility, off-site use only

Bldgs. 4813 Property Number: 21201010020

Fort Drum

Jefferson NY 13602

Status: Unutilized

Comments: 750 sq. ft., most recent use—wash rack, off-site use only

Bldg. 4814 Property Number: 21201010021

Fort Drum

Jefferson NY 13602

Status: Unutilized

Comments: 2592 sq. ft., most recent use—item repair, off-site use only

Bldgs. 1240, 1255 Property Number: 21201010022

Fort Drum

Jefferson NY 13602

Status: Unutilized

Comments: Various sq. ft., most recent use—vehicle maint. facility, off-site use only

6 Bldgs. Property Number: 21201010023

Fort Drum

Jefferson NY 13602

Location: 1248, 1250, 1276, 2361, 4816, 4817

Status: Unutilized

Comments: Various sq. ft., most recent use—storage, off-site use only

Bldg. 10791 Property Number: 21201010025

Fort Drum

Jefferson NY 13602

Status: Unutilized

Comments: 72 sq. ft., most recent use—smoking shelter, off-site use only

6 Bldgs. Property Number: 21201110049

Ft. Drum

Watertown NY 13602

Location: 01000, 01001, 01003, 01008, 01010, 01012

Status: Underutilized

Comments: Off-site removal only, multiple bldgs. w/varies sq., current use varies

21 Bldgs. Property Number: 21201140026

Ft. Drum

Ft. Drum NY 13602

Location: 10280, 10281, 10282, 10283, 10284, 10285, 10286, 10288, 10289, 10290, 10291, 10503, 10504, 10505, 10506, 10590, 10591, 10592, 10593, 10594, 10595

Status: Unutilized

Comments: Off-site removal only; sq. ft. varies; current use: concrete pad

Bldgs.02700 and 22630 Property Number: 21201210080

Fort Drum

Fort Drum NY 13602

Status: Underutilized

Comments: Off-site removal only; sf. varies; current use: varies; need repairs

Bldg. 1345 Property Number: 21201220030

Ft. Drum

Ft. Drum NY

Status: Underutilized

Comments: Off-site removal only; 7,219 sf.; vehicle maint. shop; extensive repairs needed; secured area; need prior approval to access property

5 Properties Property Number: 21201220031

Ft. Drum

Ft. Drum NY 13602

Location: BRG02, BRG19, BRG38, BRG62, BRG63

Status: Unutilized

Comments: Off-site removal only; sf varies; bridge; poor conditions; needs repairs; secured area; prior approval needed to access properties

Building 191 Property Number: 21201230005

First Street West

Ft. Drum NY 13602

Status: Unutilized

Comments: Off-site removal only; 5,922 sf.; use: Admin.; extensive structural damage; remediation required before occupying bldg.; secured area; contact Army to schedule appt. to access property

5 Buildings Property Number: 21201230006

Ft. Drum

Ft. Drum NY 13601

Location: 1454, 1456, 2443, 4890, 4893

Status: Unutilized

Comments: Off-site removal only; sf. varies; use; varies; extensive repairs needed due to age; secured area; contact Army re: details on accessing property

Building 1560 Property Number: 21201240024

Rte. 293

West Point NY 10996

Status: Unutilized

Comments: Off-site removal only, 4544 sf., storage severely damage from hurricane Irene, restricted area, contact Army on information on accessibility/removal

Building 2104 Property Number: 21201240030

West Point

West Point NY 10996

Status: Unutilized

Comments: Off-site removal only, 2,000 sf., office for red cross, good condition, restricted area, contact army on info. on accessibility/removal

4 Buildings Property Number: 21201240037

Ft. Drum

Ft. Drum NY 13602

Location: BRG28, 22374, 22354, 22254

Status: Unutilized

Comments: Off-site removal only, poor conditions, restricted area, contact Army for accessibility/removal & specific details on a property

3 Buildings Property Number: 21201240045

Ft. Drum

Ft. Drum NY 13602

Location: 2069, 2080, 21354

Status: Unutilized

Comments: Off-site removal only, sf. varies, moderate deterioration, restricted area, contact Navy for information on accessibility/removal & specific details on a particular property

2 Buildings Property Number: 21201320032

Wheeler-Sack Army Airfield

Ft. Drum NY 13602

Location: Bldgs. 2071 & 2075 each are 160 sf.

Status: Underutilized

Comments: No future use for properties; off-site removal only; poor conditions; secured area; contact Army re: accessibility/removal requirements

2 Buildings Property Number: 21201320033

Hanger Access Drive

Ft. Drum NY 13602

Location: Bldgs. 19711 & 19712 are each 3,024 sf.

Status: Underutilized

Comments: No future Army use; off-site removal only; fair/moderate conditions; secured area; contact Army re: accessibility/removal requirements

2 Buildings Property Number: 21201320034

Wheeler-Sack Army

Ft. Drum NY 13602

Location: Bldgs. 2908 & 2909 are each 11,809 sf.

Status: Unutilized

Comments: No future Army use; off-site removal only; poor conditions; secured area; contact Army re: accessibility/removal requirements

3 Buildings Property Number: 21201330011

Ft. Drum

Ft. Drum NY 13602

Location: 2150, 2190, 2360

Status: Underutilized

Comments: Off-site removal only; no future agency need; sf. varies; poor conditions; secured area; contact Army re a specific property & accessibility/removal reqs.

Building 2022 Property Number: 21201330020

Wheeler Sack Army Airfield

Ft. Drum NY 13602

Status: Unutilized

Comments: Off-site removal only; no future agency need; 115 sf.; communication ctr.; 12 months vacant; poor conditions; secure area; contact Army for accessibility/removal reqs.

North Carolina

Building 42843 Property Number: 21201240034

Ft. Bragg

Ft. Bragg NC 28310

Location: 42843

Status: Underutilized

Comments: Located in a secured area, public access is denied and no alternative method to gain access without compromising national security

Building D1209 Property Number: 21201330069

4285 Gruber Road

Ft. Bragg NC 28308

Status: Unutilized

Comments: 15,327 sf; 21 yrs. old; extensive repairs needed; secured area; extensive background check required; contact Army for accessibility requirements

D3039 Property Number: 21201330070

3912 Donovan Street

Ft. Bragg NC 28308

Status: Unutilized

Comments: 13,247 sf.; 42 yrs. old; dining facility; extensive repairs; extensive background check; secured area; contact Army for accessibility requirements

Ohio

125 Property Number: 21201230025

1155 Buckeye Rd.

Lima OH 45804

Location: Joint Systems Manufacturing Center

Status: Underutilized

Comments: Off-site removal only; 2,284 sf.; use: storage; poor conditions; asbestos identified; secured area; contact Army re: accessibility requirements

Oklahoma

Bldg. T-838, Fort Sill Property Number: 21199220609

838 Macomb Road

Lawton Co: Comanche OK 73503-5100

Status: Unutilized

Comments: 151 sq. ft., wood frame, 1 story, off-site removal only, most recent use—vet facility (quarantine stable)

Bldg. T-954, Fort Sill Property Number: 21199240659

954 Quinette Road

Lawton Co: Comanche OK 73503-5100

Status: Unutilized

Comments: 3571 sq. ft., 1 story wood frame, needs rehab, off-site use only, most recent use—motor repair shop

Bldg. T-3325, Fort Sill Property Number: 21199240681

3325 Naylor Road

Lawton Co: Comanche OK 73503-5100

Status: Unutilized

Comments: 8832 sq. ft., 1 story wood frame, needs rehab, off-site use only, most recent use—warehouse

Bldg. T-4226 Property Number: 21199440384

Fort Sill

Lawton Co: Comanche OK 73503

Status: Unutilized

Comments: 114 sq. ft., 1-story wood frame, possible asbestos and lead paint, most recent use—storage, off-site use only

Bldg. P-1015, Fort Sill Property Number: 21199520197

Lawton Co: Comanche OK 73501-5100

Status: Unutilized

Comments: 15402 sq. ft., 1-story, most recent use—storage, off-site use only

Bldg. P-366, Fort Sill Property Number: 21199610740

Lawton Co: Comanche OK 73503

Status: Unutilized

Comments: 482 sq. ft., possible asbestos, most recent use—storage, off-site use only

Building P-5042 Property Number: 21199710066

Fort Sill

Lawton Co: Comanche OK 73503-5100

Status: Unutilized

Comments: 119 sq. ft., possible asbestos and lead paint, most recent use—heat plant, off-site use only

4 Buildings Property Number: 21199710086

Fort Sill

Lawton Co: Comanche OK 73503-5100

Location: T-6465, T-6466, T-6467, T-6468

Status: Unutilized

Comments: Various sq. ft., possible asbestos and lead paint, most recent use—range support, off-site use only

Bldg. T-810 Property Number: 21199730350

Fort Sill

Lawton Co: Comanche OK 73503-5100

Status: Unutilized

Comments: 7205 sq. ft., possible asbestos/lead paint, most recent use—hay storage, off-site use only

Bldgs. T-837, T-839 Property Number: 21199730351

Fort Sill

Lawton Co: Comanche OK 73503-5100

Status: Unutilized

Comments: Approx. 100 sq. ft. each, possible asbestos/lead paint, most recent use—storage, offsite use only

Bldg. P-934 Property Number: 21199730353

Fort Sill

Lawton Co: Comanche OK 73503-5100

Status: Unutilized

Comments: 402 sq. ft., possible asbestos/lead paint, most recent use—storage, off-site use only

Bldgs. T-1468, T-1469 Property Number: 21199730357

Fort Sill

Lawton Co: Comanche OK 73503-5100

Status: Unutilized

Comments: 114 sq. ft., possible asbestos/lead paint, most recent use—storage, off-site use only

Bldg. T-1470 Property Number: 21199730358

Fort Sill

Lawton Co: Comanche OK 73503-5100

Status: Unutilized

Comments: 3120 sq. ft., possible asbestos/lead paint, most recent use—storage, off-site use only

Bldgs. T-1954, T-2022 Property Number: 21199730362

Fort Sill

Lawton Co: Comanche OK 73503-5100

Status: Unutilized

Comments: Approx. 100 sq. ft. each, possible asbestos/lead paint, most recent use—storage, offsite use only

Bldg. T-2184 Property Number: 21199730364

Fort Sill

Lawton Co: Comanche OK 73503-5100

Status: Unutilized

Comments: 454 sq. ft., possible asbestos/lead paint, most recent use—storage, off-site use only

Bldgs. T-2186, T-2188, T-2189 Property Number: 21199730366

Fort Sill

Lawton Co: Comanche OK 73503-5100

Status: Unutilized

Comments: 1656—3583 sq. ft., possible asbestos/lead paint, most recent use—vehicle maint. shop, off-site use only

Bldg. T-2187 Property Number: 21199730367

Fort Sill

Lawton Co: Comanche OK 73503-5100

Status: Unutilized

Comments: 1673 sq. ft., possible asbestos/lead paint, most recent use—storage, off-site use only

Bldgs. T-2291 thru T-2296 Property Number: 21199730372

Fort Sill

Lawton Co: Comanche OK 73503-5100

Status: Unutilized

Comments: 400 sq. ft. each, possible asbestos/lead paint, most recent use—storage, off-site use only

Bldgs. T-3001, T-3006 Property Number: 21199730383

Fort Sill

Lawton Co: Comanche OK 73503-5100

Status: Unutilized

Comments: Approx. 9300 sq. ft., possible asbestos/lead paint, most recent use—storage, off-site use only

Bldg. T-3314 Property Number: 21199730385

Fort Sill

Lawton Co: Comanche OK 73503-5100

Status: Unutilized

Comments: 229 sq. ft., possible asbestos/lead paint, most recent use—office, off-site use only

Bldg. T-5041 Property Number: 21199730409

Fort Sill

Lawton Co: Comanche OK 73503-5100

Status: Unutilized

Comments: 763 sq. ft., possible asbestos/lead paint, most recent use—storage, off-site use only

Bldg. T-5420 Property Number: 21199730414

Fort Sill

Lawton Co: Comanche OK 73503-5100

Status: Unutilized

Comments: 189 sq. ft., possible asbestos/lead paint, most recent use—fuel storage, off-site use only

Bldg. T-7775 Property Number: 21199730419

Fort Sill

Lawton Co: Comanche OK 73503-5100

Status: Unutilized

Comments: 1452 sq. ft., possible asbestos/lead paint, most recent use—private club, off-site use only

4 Bldgs. Property Number: 21199910133

Fort Sill

P-617, P-1114, P-1386, P-1608

Lawton Co: Comanche OK 73503-5100

Status: Unutilized

Comments: 106 sq. ft., possible asbestos/lead paint, most recent use—utility plant, off-site use only

Bldg. P-746 Property Number: 21199910135

Fort Sill

Lawton Co: Comanche OK 73503-5100

Status: Unutilized

Comments: 6299 sq. ft., possible asbestos/lead paint, most recent use—admin., off-site use only

Bldg. P-2582 Property Number: 21199910141

Fort Sill

Lawton Co: Comanche OK 73503-5100

Status: Unutilized

Comments: 3672 sq. ft., possible asbestos/lead paint, most recent use—admin., off-site use only

Bldg. P-2914 Property Number: 21199910146

Fort Sill

Lawton Co: Comanche OK 73503-5100

Status: Unutilized

Comments: 1236 sq. ft., possible asbestos/lead paint, most recent use—storage, off-site use only

Bldg. P-5101 Property Number: 21199910153

Fort Sill

Lawton Co: Comanche OK 73503-5100

Status: Unutilized

Comments: 82 sq. ft., possible asbestos/lead paint, most recent use—gas station, off-site use only

Bldg. S-6430 Property Number: 21199910156

Fort Sill

Lawton Co: Comanche OK 73503-5100

Status: Unutilized

Comments: 2080 sq. ft., possible asbestos/lead paint, most recent use—range support, off-site use only

Bldg. T-6461 Property Number: 21199910157

Fort Sill

Lawton Co: Comanche OK 73503-5100

Status: Unutilized

Comments: 200 sq. ft., possible asbestos/lead paint, most recent use—range support, off-site use only

Bldg. T-6462 Property Number: 21199910158

Fort Sill

Lawton Co: Comanche OK 73503-5100

Status: Unutilized

Comments: 64 sq. ft., possible asbestos/lead paint, most recent use—control tower, off-site use only

Bldg. P-7230 Property Number: 21199910159

Fort Sill

Lawton Co: Comanche OK 73503-5100

Status: Unutilized

Comments: 160 sq. ft., possible asbestos/lead paint, most recent use—transmitter bldg., off-site use only

Bldg. S-4023 Property Number: 21200010128

Fort Sill

Lawton Co: Comanche OK 73503-5100

Status: Unutilized

Comments: 1200 sq. ft., possible asbestos/lead paint, most recent use—storage, off-site use only

Bldg. P-747 Property Number: 21200120120

Fort Sill

Lawton Co: Comanche OK 73503-5100

Status: Unutilized

Comments: 9232 sq. ft., possible asbestos/lead paint, most recent use—lab, off-site use only

Bldg. P-842 Property Number: 21200120123

Fort Sill

Lawton Co: Comanche OK 73503-5100

Status: Unutilized

Comments: 192 sq. ft., possible asbestos/lead paint, most recent use—storage, off-site use only

Bldg. T-911 Property Number: 21200120124

Fort Sill

Lawton Co: Comanche OK 73503-5100

Status: Unutilized

Comments: 3080 sq. ft., possible asbestos/lead paint, most recent use—office, off-site use only

Bldg. P-1672 Property Number: 21200120126

Fort Sill

Lawton Co: Comanche OK 73503-5100

Status: Unutilized

Comments: 1056 sq. ft., possible asbestos/lead paint, most recent use—storage, off-site use only

Bldg. S-2362 Property Number: 21200120127

Fort Sill

Lawton Co: Comanche OK 73503-5100

Status: Unutilized

Comments: 64 sq. ft., possible asbestos/lead paint, most recent use—gatehouse, off-site use only

Bldg. P-2589 Property Number: 21200120129

Fort Sill

Lawton Co: Comanche OK 73503-5100

Status: Unutilized

Comments: 3672 sq. ft., possible asbestos/lead paint, most recent use—storage, off-site use only

Bldgs. 00937, 00957 Property Number: 21200710104

Fort Sill

Lawton OK 73501

Status: Unutilized

Comments: 1558 sq. ft., most recent use—storage shed off-site use only

Bldg.01514 Property Number: 21200710105

Fort Sill

Lawton OK 73501

Status: Unutilized

Comments: 1602 sq. ft., most recent use—storage, off-site use only

Bldg. 05685 Property Number: 21200820152

Fort Sill

Lawton OK 73501

Status: Unutilized

Comments: 24,072 sq. ft., concrete block/w brick, off-site use only

Bldg. 07480 Property Number: 21200920002

Fort Sill

Lawton OK 73501

Status: Unutilized

Comments: 1200 sq. ft., most recent use—recreation, off-site use only

Bldgs. 01509, 01510 Property Number: 21200920060

Fort Sill

Lawton OK 73501

Status: Unutilized

Comments: Various sq. ft., most recent use—vehicle maint. shop, off-site use only

4 Bldgs. Property Number: 21200920061

Fort Sill

2591, 2593, 2595, 2604

Lawton OK 73501

Status: Unutilized

Comments: Various sq. ft., most recent use—classroom/admin, off-site use only

Bldg. 06456 Property Number: 21200930003

Fort Sill

Lawton OK 73501

Status: Unutilized

Comments: 413 sq. ft. range support facility, off-site use only

Fort Sill (5 Bldgs.) Property Number: 21201110022

2583-87 Currie Road

Lawton Co: Comanche OK 73501-5100

Location: Bldgs.: 02583, 02584, 02585, 02586, 02587

Status: Unutilized

Comments: Off-site removal only, sq. ft. varies; current use varies

Fort Sill (5 Bldgs.) Property Number: 21201110023

Currie Road

Lawton Co: Comanche OK 73501-5100

Location: Bldgs. 02588, 02769, 02770, 02771, 02950

Status: Unutilized

Comments: Off-site removal only, sq. ft. varies; current use varied

Bldgs. 02990 & 05020 Property Number: 21201110024

Fort Sill

Lawton Co: Comanche OK 73501-5100

Status: Unutilized

Comments: Off-site removal only, bldg. 02990—3,715 sq. ft. and bldg. 05020—6,682 sq. ft.; current use fast food facility and storage

3 Bldgs. Property Number: 21201210089

Bateman Rd, Fort Sill

Lawton Co: Comanche OK 73501

Location: 1511, 1518, 1519

Status: Unutilized

Comments: Off-site removal only; various uses (dispatch bldgs. and admin/shop control)

6 Bldgs. Property Number: 21201210090

Currie Rd, Fort Sill

Lawton Co: Comanche OK 73501

Location: 2524, 2590, 2592, 2593, 2595, 2596

Status: Unutilized

Comments: Off-site removal only; various uses

4 Bldgs. Property Number: 21201210091

Ringgold Rd, Fort Sill

Lawton Co: Comanche OK 73501

Location: 2776, 2919, 2920, 2921

Status: Unutilized

Comments: Off-site removal only; various uses

9 Bldgs. Property Number: 21201210092

Fort Sill

Lawton Co: Comanche OK 73501

Location: 02914, 02924, 02927, 02930, 02936, 02952, 03685, 04702, 05485

Status: Unutilized

Comments: Off-site removal only; various uses

4 Buildings Property Number: 21201230052

Ft. Sill

Lawton OK 73501

Location: 2285, 3168, 2916, 2915

Status: Unutilized

Comments: Off-site removal only; sf. varies; use: varies; fair conditions; contact Army re: further details

20 Building Property Number: 21201240021

Ft. Sill

Ft. Sill OK 73503

Location: 3456, 3457, 3460, 3462, 3463, 3466, 467, 3468, 3470, 3472, 3473, 3476, 3477, 3479, 6009, 6010, 6012, 6014, 6015, 6018

Status: Unutilized

Comments: Off-site removal only, sf varies, fair conditions, contact Army for info on specific details on a particular property

29 Buildings Property Number: 21201240028

Ft. Sill

Ft. Sill OK 73503

Location: 1, 344, 2522, 2525, 2597, 2598, 2599, 2772, 2774, 2775, 2777, 3355, 3357, 3358, 3360, 3361, 3362, 3363, 3364, 3368, 3401, 3402, 3403, 3404, 3405, 3451, 3452, 3453, 3454

Status: Unutilized

Comments: Off-site removal only, sf. varies, fair conditions, contact Army for specific details for a particular property

Building 3356 Property Number: 21201240050

Burrill Rd.

Ft. Sill OK 73503

Status: Unutilized

Comments: Off-site removal only; 10,839 sf.; vech. maint. shop; 6 mons. vacant; moderate conditions

Building 2867 Property Number: 21201310007

Craig Rd.

Ft. Sill OK 73503

Status: Unutilized

Comments: Off-site removal only; 3,658 sf.; 6 mons. vacant; moderate conditions

Building 954 Property Number: 21201310008

Quinette Rd.

Ft. Sill OK 73503

Status: Unutilized

Comments: Off-site removal only; 3,571 sf.; Admin. General Purpose; 6 mons. vacant; moderate conditions

Building 341 Property Number: 21201310009

Randolph Rd.

Ft. Sill OK 73503

Status: Unutilized

Comments: Off-site removal only; 645 sf.; TNG AIDS CTR.; 6 mons. vacant; moderate conditions

39 Buildings Property Number: 21201330041

Fort Sill

Ft. Sill OK 73503

Location: 2870, 2871, 2872, 2873, 2874, 2875, 2951, 3001, 3004, 3005, 3006, 3551, 3352, 3353, 3354, 3407, 3408, 3409, 3481, 3482, 3486, 3487, 3488, 3489, 3494, 3495, 3496, 3498, 3601, 3602, 3608, 3609, 3622, 3623, 3624, 4702, 4900, 6700, 7803

Status: Unutilized

Comments: Off-site removal only; no future agency need; 6+ months vacant; sf. varies; contact Army for more info. on a specific property and removal reqs.

26 Buildings Property Number: 21201330055

Fort Sill

Fort Sill OK 93503

Location:

2596, 2597, 2774, 2838, 2839, 2840, 2841, 2843, 2844, 2847, 2850, 2851, 2853, 2854, 2855, 2856, 2858, 2860, 2861, 2862, 2863, 2864, 2865, 2866, 2868, 2869

Status: Unutilized

Comments: Off-site removal only; no future agency need; 6+ months vacant; sf. varies; contact Army for more info. on a specific property and removal requirements

Pennsylvania

Building 01015 Property Number: 21201320031

11 Hap Arnold Blvd.

Tobyhanna PA 18466

Status: Unutilized

Comments: Off-site removal only; 3,120 sf.; recruiting station; 1 month vacant; poor conditions; asbestos; secured area; contact Army for more info.

Building 01001 Property Number: 21201320035

11 Hap Arnold Blvd.

Tobyhanna PA 18466

Status: Excess

Comments: Off-site removal only; 4,830 sf.; youth center/admin.; 1 month vacant; poor conditions; asbestos; secured area; contact Army for more info.

Puerto Rico

3 Building Property Number: 21201240041

Ft. Buchanan

Guaynabo PR 00934

Location: 19, 234, 294

Status: Excess

Comments: Off-site removal only, sf. varies, deteriorated, restricted aria, contact Army for information on accessibility/removal, specific on a particular property

Building 293 Property Number: 21201240049

Crane Loop

Ft. Buchanan PR 00934

Status: Excess

Comments: Off-site removal only; 54 sf.; ready magazine; 24 mons. vacant; restricted area; deteriorated; contact Army for accessibility/removal requirements

34 Buildings Property Number: 21201310056

Ft. Buchanan

Ft. Buchanan PR 00934

Location: 01109, 01112, 0115, 01117, 01118, 01122, 01125, 01174, 01176, 01179, 01181, 01182, 01184, 01185, 01187, 01190, 01192, 01193, 01197, 01198, 01199, 01203, 01204, 01205, 01207, 01208, 01210, 01211, 01214, 01215, 01217, 01219, 01223, 01226

Status: Excess

Comments: Off-site removal only; sf. varies; residential; deteriorating; restricted area; contact Army for a property & accessibility/removal reqs.

5 Buildings Property Number: 21201330037

Ft. Buchanan

Guaynabo PR 00934

Location: 00141, 00551, 00558, 00570, 00579

Status: Excess

Comments: Off-site removal only; deteriorated; secured area; contact Army for info. on a specific property & accessibility removal reqs.

Tennessee

Building 2250 Property Number: 21201340001

Indiana Ave; Ft. Campbell

Ft. Campbell TN 42223

Location: originally published under 21200330094 as ‘unsuitable'

Status: Unutilized

Comments: 2,500 sq. ft.; office; 36+ months vacant; poor conditions; need repairs; secured area; strict accessibility requirements; contact Army for more info.

Land

Parcel No. 1 Property Number: 21200920003

Fort Campbell

Tract No. 13M-3

Montgomery TN 42223

Status: Excess

Comments: 6.89 acres/thick vegetation

Parcel No. 2 Property Number: 21200920004

Fort Campbell

Tract Nos.12M-16B & 13M-3

Montgomery TN 42223

Status: Excess

Comments: 3.41 acres/wooded

Parcel No. 3 Property Number: 21200920005

Fort Campbell

Tract No. 12M-4

Montgomery TN 42223

Status: Excess

Comments: 6.56 acre/wooded

Parcel No. 4 Property Number: 21200920006

Fort Campbell

Tract Nos10M-22 &10M-23

Montgomery TN 42223

Status: Excess

Comments: 5.73 acres/wooded

Parcel No. 5 Property Number: 21200920007

Fort Campbell

Tract No. 10M-20

Montgomery TN 42223

Status: Excess

Comments: 3.86 acres/wooded

Parcel No. 7 Property Number: 21200920008

Fort Campbell

Tract No. 10M-10

Montgomery TN 42223

Status: Excess

Comments: 9.47 acres/wooded

Parcel No. 8 Property Number: 21200920009

Fort Campbell

Tract No. 8M-7

Montgomery TN 42223

Status: Excess

Comments: 15.13 acres/wooded

Parcel No. 6 Property Number: 21200940013

Fort Campbell

Hwy 79

Montgomery TN 42223

Status: Excess

Comments: 4.55 acres, wooded w/dirt road/fire break

Texas

Building

Bldg. 7137, Fort Bliss Property Number: 21199640564

El Paso Co: El Paso TX 79916

Status: Unutilized

Comments: 35,736 sq. ft., 3-story, most recent use—housing, off-site use only

Bldg. 92043 Property Number: 21200020206

Fort Hood

Ft. Hood Co: Bell TX 76544

Status: Unutilized

Comments: 450 sq. ft., most recent use—storage, off-site use only

Bldg. 92044 Property Number: 21200020207

Fort Hood

Ft. Hood Co: Bell TX 76544

Status: Unutilized

Comments: 1920 sq. ft., most recent use—admin., off-site use only

Bldg. 92045 Property Number: 21200020208

Fort Hood

Ft. Hood Co: Bell TX 76544

Status: Unutilized

Comments: 2108 sq. ft., most recent use—maint. off-site use only

Bldgs. P6220, P6222 Property Number: 21200330197

Fort Sam Houston

Camp Bullis

San Antonio Co: Bexar TX

Status: Unutilized

Comments: 384 sq. ft., most recent use—carport/storage, off-site use only

Bldgs. P6224, P6226 Property Number: 21200330198

Fort Sam Houston

Camp Bullis

San Antonio Co: Bexar TX

Status: Unutilized

Comments: 384 sq. ft., most recent use—carport/storage, off-site use only

Bldg. 92039 Property Number: 21200640101

Fort Hood

Ft. Hood Co: Bell TX 76544

Status: Excess

Comments: 80 sq. ft., most recent use—storage, off-site use only

Bldgs. 04281, 04283 Property Number: 21200720085

Fort Hood

Bell TX 76544

Status: Excess

Comments: 4000/8020 sq. ft., most recent use—storage shed off-site use only

Bldg. 04285 Property Number: 21200720087

Fort Hood

Bell TX 76544

Status: Excess

Comments: 8000 sq. ft., most recent use—storage shed off-site use only

Bldg. 04286 Property Number: 21200720088

Fort Hood

Bell TX 76544

Status: Excess

Comments: 36,000 sq. ft., presence of asbestos, most recent use—storage shed off-site use only

Bldg. 04291 Property Number: 21200720089

Fort Hood

Bell TX 76544

Status: Excess

Comments: 6400 sq. ft., presence of asbestos, most recent use—storage shed off-site use only

Bldg. 4410 Property Number: 21200720090

Fort Hood

Bell TX 76544

Status: Excess

Comments: 12,956 sq. ft., presence of asbestos, most recent use—simulation center, off-site use only

Bldgs. 10031, 10032, 10033 Property Number: 21200720091

Fort Hood

Bell TX 76544

Status: Excess

Comments: 2578/3383 sq. ft., presence of asbestos, most recent use—admin., off-site use only

Bldg. 56435 Property Number: 21200720093

Fort Hood

Bell TX 76544

Status: Excess

Comments: 3441 sq. ft., presence of asbestos, most recent use—barracks, off-site use only

Bldg. 05708 Property Number: 21200720094

Fort Hood

Bell TX 76544

Status: Excess

Comments: 1344 sq. ft., most recent use—community center, off-site use only

Bldg. 93013 Property Number: 21200720099

Fort Hood

Bell TX 76544

Status: Excess

Comments: 800 sq. ft., most recent use—club, off-site use only

4 Bldgs. Property Number: 21200810048

Fort Hood

Bell TX 76544

Location: 00229, 00230, 00231, 00232

Status: Unutilized

Comments: various sq. ft., presence of asbestos, most recent use—training aids center, off-site use only

Bldg. 00324 Property Number: 21200810049

Fort Hood

Bell TX 76544

Status: Unutilized

Comments: 13,319 sq. ft., most recent use—roller skating rink, off-site use only

Bldgs. 00710, 00739, 00741 Property Number: 21200810050

Fort Hood

Bell TX 76544

Status: Unutilized

Comments: various sq. ft., presence of asbestos, most recent use—repair shop, off-site use only

Bldg. 00713 Property Number: 21200810052

Fort Hood

Bell TX 76544

Status: Unutilized

Comments: 3200 sq. ft., presence of asbestos, most recent use—hdqts. bldg., off-site use only

Bldgs. 1938, 04229 Property Number: 21200810053

Fort Hood

Bell TX 76544

Status: Unutilized

Comments: 2736/9000 sq. ft., presence of asbestos, most recent use—admin., off-site use only

Bldgs. 02218, 02220 Property Number: 21200810054

Fort Hood

Bell TX 76544

Status: Unutilized

Comments: 7289/1456 sq. ft., presence of asbestos, most recent use—museum, off-site use only

Bldg. 0350 Property Number: 21200810055

Fort Hood

Bell TX 76544

Status: Unutilized

Comments: 28,290 sq. ft., presence of asbestos, most recent use—veh. maint. shop, off-site use only

Bldg. 04449 Property Number: 21200810056

Fort Hood

Bell TX 76544

Status: Unutilized

Comments: 3822 sq. ft., most recent use—police station, off-site use only

Bldg. 91077 Property Number: 21200810057

Fort Hood

Bell TX 76544

Status: Unutilized

Comments: 3200 sq. ft., presence of asbestos, most recent use—educational facility, off-site use only

Bldg. 57005 Property Number: 21200840073

Fort Hood

Bell TX 76544

Status: Excess

Comments: 500 sq. ft., presence of asbestos, most recent use—water supply/treatment, off-site use only

B-42 Property Number: 21201210007

Fort Hood

Ft. Hood TX 76544

Status: Excess

Comments: Off-site removal only; 893 sq. ft.; current use: storage; asbestos identified

B-2319 Property Number: 21201210010

Fort Hood

Ft. Hood TX 76544

Status: Unutilized

Comments: Off-site removal only; 1,339 sq. ft.; current use: exchange cafe; asbestos identified

B-4237 Property Number: 21201210011

Fort Hood

Ft. Hood TX 76544

Status: Unutilized

Comments: Off-site removal only; 7,840 sq. ft.; current use: storage; asbestos identified

2 Bldgs. Property Number: 21201210012

Fort Hood

Ft. Hood TX 76544

Location: 4238, 4239

Status: Unutilized

Comments: Off-site removal only; sq. ft. varies; current use: varies; asbestos identified

6 Bldgs. Property Number: 21201210013

Fort Hood

Ft. Hood TX 76544

Location: 4240, 4241, 4253, 4254, 4271, 4444

Status: Unutilized

Comments: Off-site removal only; sq. ft. varies; current use: varies; asbestos identified

2 Bldgs. Property Number: 21201210014

Fort Hood

Ft. Hood TX 76544

Location: 5652, 56272

Status: Unutilized

Comments: Off-site removal only; sq. ft. varies; current use: varies

4 Bldgs. Property Number: 21201210015

Fort Hood

Ft. Hood TX 76544

Location: 4428, 4437, 4452, 56423

Status: Unutilized

Comments: Off-site removal; sq. ft. varies; current use: varies; asbestos identified

B-1301 Property Number: 21201220001

Ft. Bliss

Ft. Bliss TX 79916

Status: Underutilized

Comments: Off-site removal only; 18,739 sf.; current use: thrift shop; poor conditions; need repairs

Bldg. 7194 Property Number: 21201220002

Ft. Bliss

Ft. Bliss TX 79916

Status: Unutilized

Comments: Off-site removal only; 2,125 sf.; current use: housing; poor conditions—need repairs; asbestos & lead identified; need remediation

2 Buildings Property Number: 21201230012

West Ft. Hood

Ft. Hood TX 76544

Location: 90047 & 92080

Status: Excess

Comments: Off-site removal only; 1,680 sf. (90047); 1,059 sf. (92080); restricted military installation; contact Army re: accessibility

6 Buildings Property Number: 21201230057

Ft. Hood

Ft. Hood TX 76544

Location: 9541, 4478, 9511, 41003, 41002, 70005

Status: Excess

Comments: Off-site removal only; need repairs; asbestos identified in some bldgs.; restricted area; prior permission to access & relocate; contact Army for details on specific bldgs.

Building 11142 Property Number: 21201240009

SSG Sims Rd.

Ft. Bliss TX 79916

Status: Excess

Comments: Off-site removal only; 12,644 sf.; mess hall; poor conditions; limited public access; contact Army for info. on accessibility/removal

Building 6951 Property Number: 21201240010

11331 Montana Ave.

Ft. Bliss TX 79916

Status: Excess

Comments: Off-site removal only; 288 sf.; utility bldg.; poor conditions; limited public access; contact Army for info. on accessibility/removal

Building 6942 Property Number: 21201240011

11331 Montana Ave.

Ft. Bliss TX 79916

Status: Excess

Comments: Off-site removal only; 1,059 sf.; storage; poor conditions; limited public access; contact Army for info. on accessibility/removal

Bldg. 2432 Property Number: 21201240013

Carrington Rd.

Ft. Bliss TX 79916

Status: Excess

Comments: Off-site removal only; 180 sf.; dispatch bldg.; poor conditions; limited public access; asbestos/lead identified; contact Army for info. on accessibility/removal

Building 50 Property Number: 21201240014

50 Slater Rd.

Ft. Bliss TX 79916

Status: Excess

Comments: Off-site removal only; 9,900 sf.; office; poor conditions; limited public access; asbestos/lead identified; contact Army for info. on accessibility/removal

2 Building Property Number: 21201240044

Ft. Hood

Ft. Hood TX 76544

Location: 706, 4286

Status: Excess

Comments: Off-site removal only, sf. varies, fair conditions, asbestos, restricted area, contact Army for accessibility/removal & specific details on a property

6 Buildings Property Number: 21201310044

Ft. Hood

Ft. Hood TX 76544

Location: 4209, 4490, 4479, 4402, 4214, 4401

Status: Excess

Comments: Off-site removal only; sf. varies; right of entry restricted; contact Army for info. on a specific property & accessibility/removal requirements

7 Buildings Property Number: 21201330004

Fort Hood

Fort Hood TX 96544

Location: 40066, 40067, 40068, 40069, 40070, 40071, 92070

Status: Excess

Comments: Off-site removal only; sf. varies; contamination; secured area; contact Army for info on a specific property & accessibility/removal requirements

2 Building Property Number: 21201330029

Fort Bliss

Fort Bliss TX 79916

Location: 05015 (22,915 sf.); 05019 (23,495 sf.)

Status: Unutilized

Comments: Off-site removal only; no future agency need; poor conditions; 6+months vacant; contact Army for info. on accessibility; removal reqs.

Building 00925 Property Number: 21201330042

Red River Army Depot

Texarkana TX 75507-5000

Status: Excess

Comments: Off-site removal only; 266 sf.; 51 yrs. old deteriorated; secured area; contact Army for more info. on accessibility removal reqs.

Building 00959 Property Number: 21201330043

Red River Army Depot

Texarkana TX 75507-5000

Status: Excess

Comments: Off-site removal only; 400 sf.; break room; 36 yrs.-old; deteriorated; secured area; contact Army for more info.

Building 00960 Property Number: 21201330048

100 James Carlow Drive

Texarkana TX 75507-5000

Status: Excess

Comments: Off-site removal only; 160 sf.; 36 yrs.-old; deteriorated; asbestos; secured area; contact Army for more info.

Building 40072 Property Number: 21201330057

Metorpool Rd.

Fort Hood TX 76544

Status: Excess

Comments: Off-site removal; 1,943 sf., health clinic; asbestos; 12+months vacant; fair/moderate conditions; restricted area; contact Army for accessibility/removal reqs.

Land

1 acre Property Number: 21200440075

Fort Sam Houston

San Antonio Co: Bexar TX 78234

Status: Excess

Comments: 1 acre, grassy area

Utah

Building

Building 00118 Property Number: 21201310002

1 Tooele Army Depot

Tooele UT 84074

Location: Previously reported under HUD property number 21200740163

Status: Underutilized

Comments: Off-site removal only; 6,136 sf.; 4 mons. vacant; barracks; major repairs needed; w/in secured area; contact Army for info. on accessibility/removal reqs.

Building 00155 Property Number: 21201310003

1 Tooele Army Depot

Tooele UT 84074

Location: Previously reported under HUD property number 21200740165

Status: Underutilized

Comments: Off-site removal only; 8,960 sf.; bowling ctr.; major repairs needed; w/in secured area; contact Army for info. on accessibility/removal reqs.

Building 00030 Property Number: 21201310067

Tooele Army Depot

Tooele UT 84074

Status: Underutilized

Comments: Off-site removal only; playground; disassembly required; minor restoration needed; restricted area; contact Army for accessibility/removal reqs.

Building 01322 Property Number: 21201330047

1 Tooele Army Depot

Tooele UT 84074

Status: Unutilized

Comments: Off-site removal only; no future agency need; 53 sf.; 26+ months vacant; access control facility; poor conditions; secured area; contact Army for more info. on accessibility removal reqs.

Virginia

Fort Story Property Number: 21200720065

Ft. Story VA 23459

Status: Unutilized

Comments: 525 sq. ft., most recent use—power plant, off-site use only

8 Bldgs. Property Number: 21201220004

Ft. Belvoir

Ft. Belvoir VA 22060

Location: 808, 1150, 1197, 2303, 2903, 2905, 2907, 3137

Status: Excess

Comments: Off-site removal only; sf. varies; usage varies; good to poor conditions; may require repairs; contact Army for more details on specific properties

9 Buildings Property Number: 21201240003

Ft. Belvoir

Ft. Belvoir VA 22060

Location: 358, 361, 1140, 1141, 1142, 1143, 1498, 1499, 2302

Status: Unutilized

Comments: Off-site removal only; sf. varies; Admin.; fair conditions; located in restricted area; contact Army for info. on accessibility/removal & specific info. on a property

Building 3327 Property Number: 21201320008

1410 Byrd St.

Ft. Lee VA 23801

Status: Excess

Comments: Off-site removal only; 10,800 sf.; repairs needed; contamination; secured area; contact Army for more info.

Building 3325 Property Number: 21201320009

Byrd St. btw. 13th & 16th Sts.

Ft. Lee VA 23801

Status: Excess

Comments: Off-site removal only; 5,829 sf.; repairs needed; contamination; secured; contact Army for more info.

Building 3324 Property Number: 21201320010

Byrd St. btw. 13th & 16th Sts.

Ft. Lee VA 23801

Status: Excess

Comments: Off-site removal only; 5,092 sf.; repairs needed; secured area; contact Army for more info.

Building 3206 Property Number: 21201320011

Corner of Adams Ave. & 13th St.

Ft. Lee VA 23801

Status: Excess

Comments: Off-site removal only; 55,979 sf.; repairs needed; secured area; contamination; contact Army for more info.

Building 3108 Property Number: 21201320012

Corner of Adam & 13th St.

Ft. Lee VA 23801

Status: Excess

Comments: Off-site removal only; 51,718 sf.; repairs needed; secured area; contamination; contact Army for more info.

Building 3701 Property Number: 21201320013

16th & Byrd St.

Ft. Lee VA 23801

Status: Excess

Comments: Off-site removal only; 40,920 sf.; repairs needed; secured area; contact Army for more info.

Washington

Bldg. U001C Property Number: 21199920238

Fort Lewis

Ft. Lewis Co: Pierce WA 98433

Status: Unutilized

Comments: 960 sq. ft., needs repair, presence of asbestos/lead paint, most recent use—supply, offsite use only

Bldg. U018C Property Number: 21199920248

Fort Lewis

Ft. Lewis Co: Pierce WA 98433

Status: Unutilized

Comments: 48 sq. ft., needs repair, presence of asbestos/lead paint, off-site use only

Bldg. U039B Property Number: 21199920260

Fort Lewis

Ft. Lewis Co: Pierce WA 98433

Status: Excess

Comments: 1600 sq. ft., needs repair, presence of asbestos/lead paint, most recent use—grandstand/bleachers, off-site use only

Bldg. U039C Property Number: 21199920261

Fort Lewis

Ft. Lewis Co: Pierce WA 98433

Status: Excess

Comments: 600 sq. ft., needs repair, presence of asbestos/lead paint, most recent use—support, off-site use only

Bldg. U115A Property Number: 21199920275

Fort Lewis

Ft. Lewis Co: Pierce WA 98433

Status: Excess

Comments: 36 sq. ft., needs repair, presence of asbestos/lead paint, most recent use—tower, offsite use only

Bldg. U507A Property Number: 21199920276

Fort Lewis

Ft. Lewis Co: Pierce WA 98433

Status: Excess

Comments: 400 sq. ft., needs repair, presence of asbestos/lead paint, most recent use—support, off-site use only

Bldg. C0120 Property Number: 21199920281

Fort Lewis

Ft. Lewis Co: Pierce WA 98433

Status: Excess

Comments: 384 sq. ft., needs repair, presence of asbestos/lead paint, most recent use—scale house, off-site use only

Bldg. 1445 Property Number: 21199920294

Fort Lewis

Ft. Lewis Co: Pierce WA 98433

Status: Excess

Comments: 144 sq. ft., needs repair, presence of asbestos/lead paint, most recent use—generator bldg., off-site use only

Bldg. 03099 Property Number: 21199920296

Fort Lewis

Ft. Lewis Co: Pierce WA 98433

Location: 03091 is demo

Status: Excess

Comments: Various sq. ft., needs repair, presence of asbestos/lead paint, most recent use—sentry station, off-site use only

Bldg. 4040 Property Number: 21199920298

Fort Lewis

Ft. Lewis Co: Pierce WA 98433

Status: Excess

Comments: 8326 sq. ft., needs repair, presence of asbestos/lead paint, most recent use—shed, offsite use only

Bldg. 6191 Property Number: 21199920303

Fort Lewis

Ft. Lewis Co: Pierce WA 98433

Status: Excess

Comments: 3663 sq. ft., needs repair, presence of asbestos/lead paint, most recent use—exchange branch, off-site use only

Bldg. 08076 Property Number: 21199920304

Fort Lewis

Ft. Lewis Co: Pierce WA 98433

Location: 08080 is demo

Status: Excess

Comments: 3660/412 sq.ft. needs repair, presence of asbestos/lead paint, off-site use only

Bldg. 8956 Property Number: 21199920308

Fort Lewis

Ft. Lewis Co: Pierce WA 98433

Status: Excess

Comments: 100 sq. ft., needs repair, presence of asbestos/lead paint, most recent use—storage, off-site use only

4 Bldgs. Property Number: 21201210087

Joint Base Louis McCord

Lewis-McCord Co: Pierce WA 98433

Location: J0053, 00794, 09791, 09989

Status: Unutilized

Comments: Off-site removal only; sf varies; current use: varies; need repairs

7903 Property Number: 21201230023

Plant Rd.

JBLM WA 98433

Status: Unutilized

Comments: 169 sf.; use: access control facility; extensive repairs needed; secured area; contact Army re: accessibility requirements

E1302 & R7610 Property Number: 21201230028

JBLM

JBLM WA 98433

Status: Unutilized

Comments: 80 sf. (E1302); 503 sf. (R7610); use: varies; major repairs needed; secured area; contact Army re: accessibility requirements

COE

Arkansas

DeQueen Lake 44348 Property Number: 31201320010

706 DeQueen Lake Road

DeQueen AR 71832

Status: Excess

Comments: Off-site removal only; 260 sf.; public shelter; very poor conditions

Beaver Reservoir Operational Property Number: 31201330006

Facility

2256/2258 N. 2nd Street

Rogers AR 72756

Location: 2256 (1,750 sq. ft.); 2258 (1,430 sq. ft.)

Status: Unutilized

Comments: Off-site removal only; no future agency use; residential; fair conditions; contact COE for more info.

California

Valley Resident Office Property Number: 31201310008

2021 Jefferson Blvd.

W. Sacramento CA 95691

Status: Unutilized

Comments: 3,840 sf.; 9 mons. vacant; poor conditions; restricted area; transferee will need an escort to access property

Colorado

John Martin Project Office Property Number: 31201330001

29955 County Rd.

Hasty CO 81044

Status: Unutilized

Comments: Off-site removal only; no future agency need; 17 yrs.-old; comfort station; 13′3″x0′x13′3″

John Martin Project Office Property Number: 31201330002

29955 County Rd.

Hasty CO 81044

Status: Unutilized

Comments: Off-site removal only; no future agency use; 62 yrs. old; 21′ × 0′ × 23′ for each

John Martin Project Office Property Number: 31201330003

29955 County Rd.

Hasty CO 81044

Status: Unutilized

Comments: Off-site removal only; no future agency use; 33 yrs. old; vault-type comfort station; 75″ × 75″ × 75″

Florida

Land

Two Residential Zoned Lots Property Number: 31201330004

4017 7th St. SW

Lehigh Acres FL 33976

Status: Unutilized

Comments: .05 acres lots; contact COE for more info.

Georgia

Building #CSS1 Property Number: 31201320007

5625 Anderson Hwy

Hartwell GA 30643

Status: Unutilized

Comments: Off-site removal only; 351.99 sf.; poor conditions

Iowa

Storage Shed Property Number: 31201320015

Prairie Ridge Park

Rathbun Lake

Mystic IA 52574

Status: Unutilized

Comments: Off-site removal only; 80 sf; one plus months vacant; deteriorated

Storage Shed Property Number: 31201320016

Rolling Cove Park

Mystic IA 52574

Status: Unutilized

Comments: Off-site removal only; 80 sf; one plus months vacant

Bridge View Park Property Number: 31201320017

Mystic IA 52594

Status: Unutilized

Comments: Off-site removal only; 80 sf; one plus months vacant; deteriorated

Storage Shed Property Number: 31201320018

Buck Breek Area

Mystic IA 52594

Status: Unutilized

Comments: Off-site removal only; 80 sf; one plus months vacant; deteriorated

Kansas

Sun Dance Park Property Number: 31201220011

31051 Melvern Lake Pkwy

Melvern KS 66510

Status: Underutilized

Comments: 133 sf.; bathroom; poor to fair conditions; fairly significant deterioration on interior wood frame in several places

Building 81002 Property Number: 31201310001

Turkey Point Park

Osage City KS

Status: Unutilized

Comments: 89 sf.; park office; 7 mons. vacant; deteriorated

Wilson Lake Property Number: 31201310002

4860 Outlet Blvd.

Sylvan Grove KS 67481

Status: Unutilized

Comments: 280 sf.; park shower bldg.; 48 mons. vacant; deteriorated

Marion Reservoir Property Number: 31201320002

2105 N Pawnee

Marion KS 66861

Location: 43407, 43408, 43414, 43415, 43354

Status: Unutilized

Comments: Off-site removal; sf varies. extremely poor conditions due to age & exposure to weather elements; contact COE for more information

Council Grove Lake Property Number: 31201320012

945 Lake Road

Council Grove KS 66846

Location: 44628, 44651, 44652, 44576, 44577, 44620, 44623, 44639, 44640, 44634, 44624, 44688, 44689, 44691, 44614, 44616

Status: Unutilized

Comments: Off-site removal only; size varies, moderate conditions; restricted access; contact COE for more information

Missouri

W. Hwy Vault Toilet Property Number: 31201220004

U.S. Army COE

Smithville MO 64089

Status: Underutilized

Comments: Available for off-site removal; 100 sf.; current use: toilet; need extensive repairs

St. Louis District Property Number: 31201220014

Wappapello Lake Project Office

Wappapello MO 63966

Status: Unutilized

Comments: 376.69 sf.; comfort station; significant structural issues; need repairs

New Mexico

Abiquiu Lake Project Office Property Number: 31201240004

USACE

Abiquiu NM

Status: Unutilized

Comments: Off-site removal only; 165 sf.; vault-type comfort station; repairs needed

North Carolina

Well House Property Number: 31201240002

Property ID # BEJ-17942

B.E. Jordon Dam& Lake NC

Status: Unutilized

Comments: Vacant; poor conditions; need repairs

SAC COO-16888 Property Number: 31201330011

Jeffries Plant SC Serv.

Authority Cooper River

Wake NC 27589

Status: Unutilized

Comments: Off-site removal only; no future agency need; 2,257 sq. st.; vacant; 28 yrs.-old; poor structural condition

SAS FAL-15916 Property Number: 31201330012

Hartwell Lake & Dam

Wake NC 27587

Status: Unutilized

Comments: Off-site removal only; no future agency need; 36 sq. ft.; vacant; 34+ yrs.-old; poor structural

Oklahoma

Robert S. Kerr Lake Property Number: 31201220005

HC 61 Box 238

Sallisaw OK 74955

Status: Unutilized

Comments: Off-site removal only; 704 sf.; current use: bathroom; needs repairs

5 Buildings Property Number: 31201230002

RS Kerr Lake

Sallisaw OK 74955

Location: 42863, 42857, 42858, 42859, 42860

Status: Underutilized

Comments: Off-site removal only; 264 sf.; use: vault toilet; excessive vegetation; severe damage from vandals

Oologah Lake Property Number: 31201240003

Spencer Creek

Oologah OK 74053

Status: Underutilized

Comments: Off-site removal only; 576 sf.; picnic shelter; repairs needed

Pine Creek Lake Office Compound Property Number: 31201320001

Rt. 1, Box 400

Valliant OK 74764

Status: Unutilized

Comments: Off-site removal only; 12sf; storage flammable materials, poor conditions

Eufaula Lake Property Number: 31201320003

102 E BK 200 Rd.

Stigler OK 74462

Location: 44147, 44152, 44268

Status: Unutilized

Comments: Off-site removal only; sf varies, poor conditions; contact COE for more information

Keystone Lake Property Number: 31201320011

23115 West Wekiwa Road

Sand Springs OK 74063

Location: 43568, 43451, 43452, 43567

Status: Unutilized

Comments: Off-site removal only; sf. varies. poor conditions; contact COE for more information

Eufaula Lake Office Property Number: 31201320014

102 E BL 200 Road

Stigler OK 74462

Status: Unutilized

Comments: Off-site removal only; 24 sf; water well; poor conditions

Land

Keystone Lake Property Number: 31201220007

USACE Tract No. 2424

Keystone OK

Status: Excess

Comments: .013 acres; current use: civil works land; contact COE for further conditions

Ft. Gibson Lake Property Number: 31201310009

Ft. Gibson

Wagoner OK

Location: Tract 1240

Status: Unutilized

Comments: 0.0329 acres; recreation; poor conditions

South Carolina

Building

Observation Tower Property Number: 31201310004

J. Storm Thurmond Lake & Dam

Clarks Hill SC 29821

Status: Unutilized

Comments: 64 sf.; poor conditions; vacant

Texas

Pat Mayse Lake Property Number: 31201320004

12 mi North of Paris

Powderly TX 75473

Location: 43008, 43007, 43004

Status: Unutilized

Comments: Off-site removal; sf. varies; poor conditions, contact COE for more information

Water Well House Property Number: 31201320008

3800 Comanche Gap Road

Harker Heights TX 76548

Status: Unutilized

Comments: Off-site removal only; 36 sf. (est.); poor conditions

Water Well House (BN-26674) Property Number: 31201320009

6509 Owl Creek Park Rd.

Temple TX 76502

Status: Unutilized

Comments: Off-site removal only; 36 sf (est.); poor conditions

Pat Mayse Lake Property Number: 31201320013

12 mi North of Paris

Powderly TX 75473

Status: Unutilized

Comments: Off-site removal only; support bldg. for radio tower commun; fair conditions; contact Pat Mayse personnel for escort access

Lake Texoma Property Number: 31201320019

351 Corps Road

Denison TX 75020

Location: 58096, 58023

Status: Unutilized

Comments: Off-site removal only; poor conditions; contact COE for more info.

Plowman Creek Park Property Number: 31201330007

Whitney Lake Project

Kopperl TX 76634

Location: WH-27966

Status: Unutilized

Comments: Off-site removal only; no future agency need; 50+ yrs.-old; 30 sq. ft.; water well; secured area, contact COE for more info.

Navarro Mills Lake Property Number: 31201330008

1225 FM 669

Purdon TX 76679

Status: Underutilized

Comments: Off-site removal only; no future agency need; 624 sq. ft.; 30+ yrs. old; restroom; secured area; contact COE for more info.

Steele Creek Park Property Number: 31201330009

Whitney Lake Project

Morgan TX 76671

Location: WH-27961

Status: Unutilized

Comments: Off-site removal only; 30 sq. ft.; 50+ yrs.-old; water well; secured area; contact COE for more info.

Steele Creek Park Property Number: 31201330010

Whitney Lake Project

Morgan TX 76671

Location: WH-27960

Status: Unutilized

Comments: Off-site removal only; no future agency need; 30 sq. ft.; water well; contact COE for more info.

WH-27960 Property Number: 31201330013

Steele Creek Park at Whitney Lake

Morgan TX 76671

Status: Unutilized

Comments: Off-site removal only; 30 sq. ft.; water well; 50+ yrs. old; repairs needed secured area; contact COE for more info.

Virginia

Vault Toilet Property Number: 31201310005

1930 Mays Chapel Rd.

Mecklenburg VA 23917

Location: JHK-26740

Status: Unutilized

Comments: Off-site removal only; 25.02 sf.; vacant; poor conditions

Vault Toilet Property Number: 31201310006

1930 Mays Chapel Rd.

Mecklenburg VA 23917

Location: JHK-26741

Status: Unutilized

Comments: Off-site removal only; 25.02 sf.; vacant; poor conditions

Vault Toilet Property Number: 31201310007

1930 Mays Chapel Rd.

Mecklenburg VA 23917

Location: JHK-26739

Status: Unutilized

Comments: Off-site removal only; 25.05 sf.; vacant; poor conditions

Washington

Residence, Central Ferry Park Property Number: 31201220008

1001 Little Goose Dam Rd.

Dayton WA 99328

Status: Unutilized

Comments: Off-site removal only; 1,500 sf.; residence; good conditions; an access easement is required through a real estate instrument

Restroom, Illia Dunes Property Number: 31201220013

1001 Little Goose Dam Rd.

Dayton WA 99328

Status: Unutilized

Comments: Off-site removal only; 220 sf.; restroom

Mill Creek Project Office Property Number: 31201310003

3211 Reservoir Rd.

Walla Walla WA 99362

Status: Unutilized

Comments: Off-site removal only; less than 900 sf.; office; moderate conditions; asbestos & lead base paint

Coast Guard

Massachusetts

24 Buildings Property Number: 88201310002

USCG Air Station Cape Cod

Bourne MA 02542

Location: 5649, 5643, 5664, 5652, 5319, 5327, 5331, 5332, 5338, 5362, 5363, 5365, 5373, 5391, 5654, 5659, 5677, 5673, 5688, 5691, 5694, 5695, 5423, 5375

Status: Excess

Comments: Off-site removal only; sf. varies; use varies; poor conditions; w/in restricted area; contact Coast Guard for info. on a specific property & accessibility/removal requirements

Generator Bldg. Property Number: 88201310003

North Reservation Terrace

Plum Island MA 01950

Status: Excess

Comments: Off-site removal; 144 sf.; very poor conditions; restricted area; contact Coast Guard for accessibility/removal reqs.

Tower Storage Bldg. Property Number: 88201310004

Miacomet

Nantucket MA 02554

Status: Excess

Comments: Off-site removal only; 600 sf.; very poor conditions; restricted area; contact Coast Guard for accessibility/removal reqs.

Tower Storage Bldg. Property Number: 88201310005

900 Ferry St.

Marshfield MA 02050

Status: Excess

Comments: Off-site removal only; 300 sf.; very poor conditions; restricted area; contact Coast Guard for accessibility/removal reqs.

7 Buildings Property Number: 88201320004

Lyra Drive

S. Weymouth MA 02190

Location: 213, 214, 216, 217, 218, 219, 220

Status: Excess

Comments: Off-site removal only; sf. varies; housing; poor conditions; contact Coast Guard for more info. on a specific property & accessibility/removal requirements

12 Buildings Property Number: 88201340004

USCG Air Station Cape Cod

Bourne MA 02542

Location: 5645 (4,984 sq. ft.); 5602 (4,179 sq. ft.); 5601 (6,269 sq. ft.); 5443 (4,984 sq. ft.); 5441 (4,984 sq. ft.); 5425 (4,984 sq. ft.); 5415 (4,984 sq. ft.); 5413 (4,984 sq. ft.); 5364 (4,984 sq. ft.); 5331 (2,476 sq. ft.); 5317 (4,984 sq. ft.); 5316 (4,984 sq.)

Status: Excess

Comments: Off-site removal only; major repairs needed; units vacant; secured area; contact Coast Guard for more info. on a specific property & accessibility reqs.

New York

Housing Units Property Number: 88201310008

424 USS North Carolina Rd.

Staten Island NY 10305

Status: Excess

Comments: Off-site removal only; 16,638 sf.; housing; very poor conditions; secured area; contact Coast Guard for accessibility/removal reqs.

Housing Units Property Number: 88201320005

441 USS Missouri Ln.

Staten Island NY 10305

Status: Excess

Comments: Off-site removal only; 11,071 sf; housing; repairs a must; secured area; contact Coast Guard for more information

Housing Units Property Number: 88201320006

Bldg. 449 USS Florida Court, Ft. Wadsworth

Staten Island NY 10305

Status: Excess

Comments: Off-site removal only; 3,546 sf.; housing; extensive mold; flood damage; secured area; contact Coast Guard for more info.

Housing Units Property Number: 88201340002

USCG Ft. Wadsworth Hsg. Site

Staten Island NY 10305

Location: 444 (15,786 sq. ft.); 439 (15,661 sq. ft.); 443 (14,400 sq. ft.); 453 (11,480 sq. ft.)

Status: Excess

Comments: Off-site removal only; sq. ft. varies (see above); deteriorated; secured area; contact Coast Guard for more info. re: accessibility & info. on a specific property

Energy

California

7 Buildings Property Number: 41201310002

Lawrence Berkeley Lab

Berkeley CA 94720

Location: 4, 7, 7-C, 14, 16, 16-A, 5

Status: Excess

Comments: Sf. varies; office; deteriorated; contamination; remediation needed; restricted are; contact Energy for info. on a specific property & accessibility

Illinois

Site 50, Building A Property Number: 41201340002

Fermi National Accelerator Laboratory

# 8944

Batavia IL 60510

Status: Excess

Comments: Off-site removal only; 367 sq. ft.; storage; 108 years old; secured area; contact Energy for more information

37 Shabbona Material Dev. Lab Property Number: 41201340003

Fermi National Accelerator Lab

# 37

Batavia IL 60510

Status: Excess

Comments: Off-site removal only; 1,097 sq. ft.; office; 44 yrs.-old; secured area; contact Energy for more info.

37a Shabbona-Component Storage Property Number: 41201340004

Fermi National Accelerator Laboratory

# 37A

Batavia IL 60510

Status: Excess

Comments: Off-site removal only; 2,079 sq. ft.; storage; 44 years old; secured area; contact Energy for more information

Site 50 Barn Property Number: 41201340005

Fermi National Accelerator Lab

# 8943

Fermilab IL 60510

Status: Excess

Comments: Off-site removal only; 2,952 sq. ft.; storage; 108 yrs.-old; secured area; contact Energy for more info.

33 Blackhark—Lab 8 House Property Number: 41201340006

Fermi National Accelerator Laboratory

# 33

Batavia IL 60510

Status: Excess

Comments: Off-site removal only; 1,092 sq. ft.; office; 50 years old; secured area; contact Energy for more information

Building 123

31a Blackhawk—Lab 8 North Property Number: 41201340007

Fermi National Accelerator Laboratory

Batavia IL 60510

Status: Excess

Comments: Off-site removal only; 1,650 sq. ft.; office; 43 years old; secured area; contact Energy for more information

31 Blackhawk—Lab 8 House Property Number: 41201340009

Fermi National Accelerator Laboratory

# 31

Batavia IL 60510

Status: Excess

Comments: Off-site removal only; 1,092 sq. ft.; office; 50 years old; secured area; contact Energy for more information

GSA

Alabama

Land

(Former) Huntsville Property Number: 54201340008

International Airport (HSV) Outer Market

1390 Browns Ferry Road

Madison AL 35758

Status: Excess

Comments: 0.6 acres; outer marker; property can be accessed from Browns Ferry Road; contact GSA for more information

GSA Number: 4-U-AL-0787AA

California

Building

Los Banos Field Office Property Number: 54201340006

745 West J Street

Los Banos CA 93635

Location: (Landholding-Agric.; Disposal & GSA) 2 Bldgs. 5,375 sq.; bldgs. sits on 0.41 acres

Status: Surplus

Comments: Significant fire damage to Admin. bldg.; bathroom; major repairs required; contamination; asbestos; contact GSA for more info.

GSA Number: 9-I-CA-0450-AC-3

Land

Delano Transmitting Station Property Number: 54201330005

1105 Melcher Rd.

Delano CA 93215

Location: Landholding Agency: Broadcasting Board of Governors Disposal Agency: GSA

Status: Excess

Comments: 800 acres; mostly land and some bldgs.; unavailable due to Federal interest; transmitting station; vacant since 2007; access can be gain by appt. only; contact GSA for more info.

GSA Number: 9-X-CA-1671

New York

Building

GSA

Former TSG Harold Lockwood US Property Number: 54201340007

Army Reserves Center

111 Finney Boulevard

Malone NY 12953

Status: Excess

Comments: 29960 sq. ft.: office/administrative/garage; sits on 4.82+/−acres; age 1961-1983; entry by appointment with USAR/GSA; asbestos and lead based paint; contact GSA for more information

GSA Number: 1-D-NY-0966-AA

Washington

Former Seattle Branch of the Property Number: 54201340001

Federal Reserve Bank

1015 Second Ave.

Seattle WA 98104

Location: Previously reported as suitable/unavailable under 54201220007

Status: Excess

Comments: 85,873 sq. ft.; 67+ months vacant; extensive repairs/remediation needed to occupy; asbestos/lead; historic property; any renov. will need prior approval; contact GSA for more info.

GSA Number: 9-G-WA-1259

Wisconsin

Land

TACAN Annex Property Number: 54201320005

6400 Block of Lake Rd.

Windsor WI 53598

Status: Excess

Comments: 1 acre; moderate conditions

GSA Number: 1-D-WI-611

Interior

Arizona

Old Ehrenberg Office Property Number: 61201340009

49354 Ehrenberg-Poston Hwy.

Ehrenberg AZ

Status: Unutilized

Comments: Off-site removal only; no future agency need; 800 sq. ft.; office; significant water damage; repairs a must; asbestos/lead; contact Interior for more info.

California

Siphon Drop Caretaker's Reside Property Number: 61201340010

(RPUI #00350000600B)

Yuma Main Canal

Winterhaven CA

Status: Unutilized

Comments: Off-site removal only; no future agency USE; 1,014 sq. ft.; 108+ months vacant; extensive termite damage; asbestos; mold, lead; escort required; contact Interior for more info.

NASA

Texas

Building

Building 41 Property Number: 71201310003

2101 NASA Parkway

Houston TX 77058

Status: Unutilized

Comments: 671 sf.; office/shop; deteriorated conditions; remediation needed; restricted access; stringent accessibility reqs.; contact Sandra J. Tetley at sandra.j.tetley@nasa.gov for more info.

Navy

California

Building 1811 Property Number: 77201330008

Marine Corps Air Ground

Task Force Trng.

Twentynine Palms CA 92278

Status: Excess

Comments: Off-site removal only; 5,050 sf.; storage; 59 yrs.-old; very poor conditions; secured area; contact Navy for accessibility and removal requirements

Building 5175 Property Number: 77201330009

Marine Corps Air Ground

Combat Ctr.

Twentynine Palms CA 92278

Status: Excess

Comments: Off-site removal only; 1,200 sf.; storage; 14 yrs.-old; very poor conditions; secured area; contact Navy for accessibility and removal requirements

Building 1303 Property Number: 77201330010

Marine Corps Air Ground

Combat Ctr.

Twentynine Palms CA 92278

Status: Excess

Comments: Off-site removal only; 4,040 sf.; storage; 49 yrs.-old; very poor conditions; secured area; contact Navy for accessibility and removal requirements

Building 1301 Property Number: 77201330011

Marine Corps Air Ground

Combat Ctr.

Twentynine Palms CA 92278

Status: Excess

Comments: Off-site moral only; 4,040 sf.; storage; 49 yrs.-old; very poor conditions; secured area; contact Navy for accessibility and removal requirements

Building 1305 Property Number: 77201330012

Marine Corps Air Ground

Combat Ctr.

Twentynine Palms CA 92278

Status: Excess

Comments: Off-site removal only; 4,040 sf.; storage; 49 yrs.-old; very poor conditions; secured area; contact Navy for accessibility and removal requirements

4 Buildings Property Number: 77201330030

Marine Corps Air Ground Combat

Twentynine Palms

San Bernardino CA 92278

Location: 5771 (2,046 sq. ft.); 2175 (756 sq. ft.); 5174 (1,200 sq.); 2175 (756 sq. ft.)

Status: Excess

Comments: Off-site removal only; 77-66 yrs.-old, extensive repairs needed; contamination; secured area; contact Navy for more info.

Bldg. 2172 Property Number: 77201340006

Marine Corps Air Ground Task

Force Trng. Command

Twentynine Palms CA 92278

Status: Excess

Comments: Off-site removal only; 756 sq. ft.; stored targets; 66+ yrs.-old; extensive exterior/interior wood damage; asbestos/lead; secured area; contact Navy for more info.

Bldg. 2175 Property Number: 77201340007

Marine Corps Air Ground Task

Force Trng. Command

Twentynine Palms CA 92278

Status: Excess

Comments: Off-site removal only; 756 sq. ft.; stored targets; 66+ yrs.-old; extensive exterior/interior wood damage; asbestos/lead; secured area; contact Navy for more info.

Bldg. 5174 Property Number: 77201340008

Marine Corps Air Ground Task

Force Trng. Command

Twentynine Palms CA 92278

Status: Excess

Comments: Off-site removal; 1,200 sq. ft.; 14+ yrs.-old; poor conditions; renovations needed; may contain asbestos; secured area; contact Navy for more info.

Bldg. 5771 Property Number: 77201340009

Marine Corps Air Ground Task

Force Trng. Command

Twentynine Palms CA 92278

Status: Excess

Comments: Off-site removal only; 2,046 sq. ft.; 7+ yrs.-old; good conditions; located w/in airport runway clear zone; secured area; contact Navy for more info.

Illinois

Maryland

Building 930 Property Number: 77201330019

4323 Dry House Road

Indian Head MD 20640

Location: 930

Status: Excess

Comments: Off-site removal only; 480 sf., 20+ yrs vacant; chemical plant; contaminated; major renovations required for other use; secured area; contact Navy for accessibility removal reqs.

Building 930 Property Number: 77201330020

4323 Dry House Rd.

Indian Head MD 20640

Location: 930

Status: Excess

Comments: Off-site removal only; 480 sf., 20+ yrs vacant; chemical plant; contaminated; major renovations required for other use; secured area; contact Navy for accessibility removal reqs.

Building 931 Property Number: 77201330021

4325 Dry House Road

Indian Head MD 20640

Location: 931

Status: Excess

Comments: Off-site removal only; 480 sf., chemical plant; 20 + yrs. vacant; contaminated; major renovations needed for other use; secured aria contact Navy for accessibility/removal reqs.

Building 932 Property Number: 77201330022

4327 Dry House Road

Indian Head MD 20640

Location: 932

Status: Excess

Comments: Off-site removal only; 480 sf.; chemical plant contaminated; major renovations required for other use; secured area; contact Navy for more info. on accessibility/removal reqs.

Building 933 Property Number: 77201330023

4329 Dry House Road

Indian Head MD 20640

Location: 933

Status: Excess

Comments: Off-site removal only; 480 sf.; chemical plant 20+ yrs. vacant; contaminated; major renovations required for other use; contact Navy for accessibility removal reqs.

South Carolina

Land

Marine Corps Res. Trng. Ctr. Property Number: 77201330025

SW Corner of Redmont Rd & I-26

Charleston SC

Status: Excess

Comments: 5.59 acres; contamination; contact Navy for more information

Virginia

Building

5 Buildings Property Number: 77201310005

Marine Corps Base

Quantico VA 22134

Location: 3218, 27220, 3193, 24150, 2016

Status: Excess

Comments: Off-site removal only; sf. varies; misc. support; very poor conditions; contact Navy re: details on a specific property

6 Building Property Number: 77201330017

2100 Rowell Rd.

Marine Corps Base VA 22134

Location: 2102, 2102A, 2103, 5112, 5113, 5114

Status: Excess

Comments: Off-site removal only; 81,185 total sf., deteriorated conditions; asbestos; secured area; contact Navy for info. On accessibility/removal reqs.

6 Building Property Number: 77201330018

2100 Rowell Rd

Marine Corps Base VA 22134

Location: 2102, 2102A, 2103, 5112, 5113, 5114

Status: Excess

Comments: Off-site removal only; 81,185 total sf., deteriorated conditions; asbestos; secured area; contact Navy for info. On accessibility/removal reqs.

2 Buildings Property Number: 77201330024

Marine Corps Base

Quantico VA 22134

Location: 2201, 2205

Status: Excess

Comments: Off-site removal only; sf. varies; deteriorated; contact Navy for more information on a specific property and removal requirements

VA

New York

JJP Bronx VA Medical Ctr. Property Number: 97201310002

903 Avenue St. John

Bronx NY 10455

Status: Unutilized

Comments: UPDATED INFO. 700-1,000 usable square feet; residential; significant renovations needed; contact VA Real Property Service (Amanda.Wehner@va.gov; (202) 632-5676) for more info.

TITLE V PROPERTIES REPORTED IN YEAR 2013 WHICH ARE SUITABLE AND UNAVAILABLE

AGRICULTURE

Oregon

Building

Crescent Office-East Modulas, Property Number: 15201330016

Crescent Admin Site

Crescent OR

Status: Excess

Reason: Existing Federal need

Crescent Lehman Building, FS Property Number: 15201330017

Crescent Admin Site

Crescent OR

Status: Excess

Reason: Existing Federal need

Crescent Office, FS ID 2005 Property Number: 15201330018

Crescent Admin Site

Crescent OR

Status: Excess

Reason: Existing Federal need

Crescent Office-BM Modulas, FS Property Number: 15201330019

Crescent Admin Site

Crescent OR

Status: Excess

Reason: Existing Federal need

Crescent Wellness Building, FS Property Number: 15201330020

Crescent Admin Site

Crescent OR

Status: Excess

Reason: Existing Federal need

Crescent RS Bunkhouse, FS ID Property Number: 15201330021

Crescent Admin Site

Crescent OR

Status: Excess

Reason: Existing Federal need

Crescent Fire Bunkhouse, FS ID Property Number: 15201330022

Crescent Admin Site

Crescent OR

Status: Excess

Reason: Existing Federal need

Crescent Paint Storage, FS ID Property Number: 15201330023

Crescent Admin. Site

Crescent OR

Status: Excess

Reason: Existing Federal need

Crescent Timber Storage, FS ID Property Number: 15201330024

Crescent Admin. Site

Crescent OR

Status: Excess

Reason: Existing Federal need

Crescent Admin. Garage, FS ID Property Number: 15201330025

Crescent Admin. Site

Crescent OR

Status: Excess

Reason: Existing Federal need

Crescent Storage (Pumphouse) Property Number: 15201330026

Crescent Admin. Site

Crescent OR

Status: Excess

Reason: Existing Federal need

Crescent Office—South Modular Property Number: 15201330027

Crescent Admin. Site

Crescent OR

Status: Excess

Reason: Existing Federal need

Air Force

Oklahoma

24 Buildings Property Number: 18201310040

Tinker AFB

Tinker AFB OK 73145

Status: Excess

Reason: Federal need

Building 4008 Property Number: 18201320085

6285 Hilltop Rd.

Tinker AFB OK 73145

Status: Excess

Reason: Existing Federal need

Army

Arizona

Bldg. 22541 Property Number: 21200520078

Fort Huachuca

Cochise AZ 85613-7010

Status: Excess

Reason: Occupied

Bldg. 22040 Property Number: 21200540076

Fort Huachuca

Cochise AZ 85613

Status: Excess

Reason: occupied

Colorado

Bldg. S6285 Property Number: 21200420176

Fort Carson

Ft. Carson Co: El Paso CO 80913

Status: Unutilized

Reason: In use

Georgia

Bldg. 5993 Property Number: 21200420041

Fort Benning

Ft. Benning Co: Chattahoochee GA 31905

Status: Excess

Reason: In use

Bldg. 5994 Property Number: 21200420042

Fort Benning

Ft. Benning Co: Chattahoochee GA 31905

Status: Excess

Reason: In use

Bldg. 5995 Property Number: 21200420043

Fort Benning

Ft. Benning Co: Chattahoochee GA 31905

Status: Excess

Reason: In use

Louisiana

Bldgs. T406, T407, T411 Property Number: 21200540085

Fort Polk

Ft. Polk LA 71459

Status: Unutilized

Reason: Occupied

Maryland

Bldg. 294 Property Number: 21200140081

Ft. George G. Meade

Ft. Meade Co: Anne Arundel MD 20755

Status: Unutilized

Reason: Occupied

Bldg. 1007 Property Number: 21200140085

Ft. George G. Meade

Ft. Meade Co: Anne Arundel MD 20755

Status: Unutilized

Reason: Occupied

Bldg. 2214 Property Number: 21200230054

Fort George G. Meade

Fort Meade Co: Anne Arundel MD 20755

Status: Unutilized

Reason: Occupied

Bldg. 8608 Property Number: 21200410099

Fort George G. Meade

Ft. Meade MD 20755-5115

Status: Unutilized

Reason: Occupied

Bldg. 8612 Property Number: 21200410101

Fort George G. Meade

Ft. Meade MD 20755-5115

Status: Unutilized

Reason: Occupied

Bldg. 0001A Property Number: 21200520114

Federal Support Center

Olney Co: Montgomery MD 20882

Status: Unutilized

Reason: Occupied

Bldg. 0001C Property Number: 21200520115

Federal Support Center

Olney Co: Montgomery MD 20882

Status: Unutilized

Reason: Occupied

Bldgs. 00032, 00H14, 00H24 Property Number: 21200520116

Federal Support Center

Olney Co: Montgomery MD 20882

Status: Unutilized

Reason: Occupied

Bldgs. 00034, 00H016 Property Number: 21200520117

Federal Support Center

Olney Co: Montgomery MD 20882

Status: Unutilized

Reason: Occupied

Bldgs. 00H10, 00H12 Property Number: 21200520118

Federal Support Center

Olney Co: Montgomery MD 20882

Status: Unutilized

Reason: Occupied

Missouri

Bldg. 1230 Property Number: 21200340087

Fort Leonard Wood

Ft. Leonard Wood Co: Pulaski MO 65743-8944

Status: Unutilized

Reason: Occupied

Bldg. 1621 Property Number: 21200340088

Fort Leonard Wood

Ft. Leonard Wood Co: Pulaski MO 65743-8944

Status: Unutilized

Reason: Occupied

Bldg. 5760 Property Number: 21200410102

Fort Leonard Wood

Ft. Leonard Wood Co: Pulaski MO 65743-8944

Status: Unutilized

Reason: Occupied

Bldg. 5762 Property Number: 21200410103

Fort Leonard Wood

Ft. Leonard Wood Co: Pulaski MO 65743-8944

Status: Unutilized

Reason: Occupied

Bldg. 5763 Property Number: 21200410104

Fort Leonard Wood

Ft. Leonard Wood Co: Pulaski MO 65743-8944

Status: Unutilized

Reason: Occupied

Bldg. 5765 Property Number: 21200410105

Fort Leonard Wood

Ft. Leonard Wood Co: Pulaski MO 65743-8944

Status: Unutilized

Reason: Occupied

Bldg. 5760 Property Number: 21200420059

Fort Leonard Wood

Ft. Leonard Wood Co: Pulaski MO 65743-8944

Status: Unutilized

Reason: In use

Bldg. 5762 Property Number: 21200420060

Fort Leonard Wood

Ft. Leonard Wood Co: Pulaski MO 65743-8944

Status: Unutilized

Reason: In use

Bldg. 5763 Property Number: 21200420061

Fort Leonard Wood

Ft. Leonard Wood Co: Pulaski MO 65743-8944

Status: Unutilized

Reason: In use

Bldg. 5765 Property Number: 21200420062

Fort Leonard Wood

Ft. Leonard Wood Co: Pulaski MO 65743-8944

Status: Unutilized

Reason: In use

Bldg. 00467 Property Number: 21200530085

Fort Leonard Wood

Ft. Leonard Wood Co: Pulaski MO 65743

Status: Unutilized

Reason: Occupied

New York

Bldgs. 1511-1518 Property Number: 21200320160

U.S. Military Academy

Training Area

Highlands Co: Orange NY 10996

Status: Unutilized

Reason: Occupied

Bldgs. 1523-1526 Property Number: 21200320161

U.S. Military Academy

Training Area

Highlands Co: Orange NY 10996

Status: Unutilized

Reason: Occupied

Bldgs. 1704-1705, 1721-1722 Property Number: 21200320162

U.S. Military Academy

Training Area

Highlands Co: Orange NY 10996

Status: Unutilized

Reason: Occupied

Bldg. 1723 Property Number: 21200320163

U.S. Military Academy

Training Area

Highlands Co: Orange NY 10996

Status: Unutilized

Reason: Occupied

Bldgs. 1706-1709 Property Number: 21200320164

U.S. Military Academy

Training Area

Highlands Co: Orange NY 10996

Status: Unutilized

Reason: Occupied

Bldgs. 1731-1735 Property Number: 21200320165

U.S. Military Academy

Training Area

Highlands Co: Orange NY 10996

Status: Unutilized

Reason: Occupied

Texas

Bldgs. 4219, 4227 Property Number: 21200220139

Fort Hood

Ft. Hood Co: Bell TX 76544

Status: Unutilized

Reason: Admin use

Bldgs. 4229, 4230, 4231 Property Number: 21200220140

Fort Hood

Ft. Hood Co: Bell TX 76544

Status: Unutilized

Reason: Admin use

Bldgs. 4244, 4246 Property Number: 21200220141

Fort Hood

Ft. Hood Co: Bell TX 76544

Status: Unutilized

Reason: Admin use

Bldg. 04335 Property Number: 21200440090

Fort Hood

Bell TX 76544

Status: Excess

Reason: Occupied

Bldg. 04468 Property Number: 21200440096

Fort Hood

Bell TX 76544

Status: Excess

Reason: Occupied

Bldg. 07002 Property Number: 21200440100

Fort Hood

Bell TX 76544

Status: Excess

Reason: Occupied

Bldg. 57001 Property Number: 21200440105

Fort Hood

Bell TX 76544

Status: Excess

Reason: Occupied

Bldgs. 125, 126 Property Number: 21200620075

Fort Hood

Bell TX 76544

Status: Excess

Reason: Occupied

Bldg. 02240 Property Number: 21200620078

Fort Hood

Bell TX 76544

Status: Excess

Reason: Occupied

Bldg. 04164 Property Number: 21200620079

Fort Hood

Bell TX 76544

Status: Excess

Reason: Occupied

Bldgs. 04218, 04228 Property Number: 21200620080

Fort Hood

Bell TX 76544

Status: Excess

Reason: Occupied

Bldg. 04272 Property Number: 21200620081

Fort Hood

Bell TX 76544

Status: Excess

Reason: Not Occupied

Bldg. 04415 Property Number: 21200620083

Fort Hood

Bell TX 76544

Status: Excess

Reason: Occupied

Bldg. 04493 Property Number: 21200620091

Fort Hood

Bell TX 76544

Status: Excess

Reason: Occupied

Bldg. 04494 Property Number: 21200620092

Fort Hood

Bell TX 76544

Status: Excess

Reason: Occupied

Bldg. 04632 Property Number: 21200620093

Fort Hood

Bell TX 76544

Status: Excess

Reason: Occupied

Bldg. 04640 Property Number: 21200620094

Fort Hood

Bell TX 76544

Status: Excess

Reason: Occupied

Bldg. 04645 Property Number: 21200620095

Fort Hood

Bell TX 76544

Status: Excess

Reason: Occupied

Bldg. 20121 Property Number: 21200620097

Fort Hood

Bell TX 76544

Status: Excess

Reason: Occupied

Bldg. 91052 Property Number: 21200620101

Fort Hood

Bell TX 76544

Status: Excess

Reason: Occupied

Bldg. 1345 Property Number: 21200740070

Fort Hood

Bell TX 76544

Status: Excess

Reason: Utilized

Bldgs. 1348, 1941 Property Number: 21200740071

Fort Hood

Bell TX 76544

Status: Excess

Reason: Utilized

Bldg. 1943 Property Number: 21200740073

Fort Hood

Bell TX 76544

Status: Excess

Reason: Utilized

Bldg. 1946 Property Number: 21200740074

Fort Hood

Bell TX 76544

Status: Excess

Reason: Utilized

Bldg. 4207 Property Number: 21200740076

Fort Hood

Bell TX 76544

Status: Excess

Reason: Utilized

Bldg. 4208 Property Number: 21200740077

Fort Hood

Bell TX 76544

Status: Excess

Reason: Utilized

Bldgs. 4210, 4211, 4216 Property Number: 21200740078

Fort Hood

Bell TX 76544

Status: Excess

Reason: Utilized

Bldg. 4219A Property Number: 21200740079

Fort Hood

Bell TX 76544

Status: Excess

Reason: Utilized

Bldg. 04252 Property Number: 21200740081

Fort Hood

Bell TX 76544

Status: Excess

Reason: Utilized

Bldg. 04480 Property Number: 21200740083

Fort Hood

Bell TX 76544

Status: Excess

Reason: Utilized

Bldg. 04485 Property Number: 21200740084

Fort Hood

Bell TX 76544

Status: Excess

Reason: Utilized

Bldg. 04489 Property Number: 21200740086

Fort Hood

Ft. Hood TX 76544

Status: Excess

Reason: Utilized

Bldgs. 4491, 4492 Property Number: 21200740087

Fort Hood

Bell TX 76544

Status: Excess

Reason: Utilized

Bldgs. 04914, 04915, 04916 Property Number: 21200740089

Fort Hood

Bell TX 76544

Status: Excess

Reason: Utilized

Bldg. 20102 Property Number: 21200740091

Fort Hood

Bell TX 76544

Status: Excess

Reason: Utilized

Bldg. 20118 Property Number: 21200740092

Fort Hood

Bell TX 76544

Status: Excess

Reason: Utilized

Bldg. 29027 Property Number: 21200740093

Fort Hood

Bell TX 76544

Status: Excess

Reason: Utilized

Bldg. 56017 Property Number: 21200740094

Fort Hood

Bell TX 76544

Status: Excess

Reason: Utilized

Bldg. 56202 Property Number: 21200740095

Fort Hood

Bell TX 76544

Status: Excess

Reason: Utilized

Bldg. 56224 Property Number: 21200740096

Fort Hood

Bell TX 76544

Status: Excess

Reason: Utilized

Bldg. 56329 Property Number: 21200740100

Fort Hood

Bell TX 76544

Status: Excess

Reason: Utilized

Bldg. 92043 Property Number: 21200740102

Fort Hood

Bell TX 76544

Status: Excess

Reason: Utilized

Bldg. 92072 Property Number: 21200740103

Fort Hood

Bell TX 76544

Status: Excess

Reason: Utilized

Bldg. 92083 Property Number: 21200740104

Fort Hood

Bell TX 76544

Status: Excess

Reason: Utilized

Bldgs. 04213, 04227 Property Number: 21200740189

Fort Hood

Bell TX 76544

Status: Excess

Reason: Utilized

Bldg. 4404 Property Number: 21200740190

Fort Hood

Bell TX 76544

Status: Excess

Reason: Utilized

Bldg. 56607 Property Number: 21200740191

Fort Hood

Bell TX 76544

Status: Excess

Reason: Utilized

Bldg. 91041 Property Number: 21200740192

Fort Hood

Bell TX 76544

Status: Excess

Reason: Utilized

5 Bldgs. Property Number: 21200740193

Fort Hood

93010, 93011, 93012, 93014

Bell TX 76544

Status: Excess

Reason: Utilized

Bldg. 94031 Property Number: 21200740194

Fort Hood

Bell TX 76544

Status: Excess

Reason: Utilized

Building 6924 Property Number: 21201240012

11331 Montana Ave.

Ft. Bliss TX 79916

Status: Excess

Reason: Occupied

Virginia

Bldg. T2827 Property Number: 21200320172

Fort Pickett

Blackstone Co: Nottoway VA 23824

Status: Unutilized

Reason: Occupied

Bldg. T2841 Property Number: 21200320173

Fort Pickett

Blackstone Co: Nottoway VA 23824

Status: Unutilized

Reason: Occupied

Bldg. 01014 Property Number: 21200720067

Fort Story

Ft. Story VA 23459

Status: Unutilized

Reason: Occupied

Bldg. 01063 Property Number: 21200720072

Fort Story

Ft. Story VA 23459

Status: Unutilized

Reason: Occupied

Bldg. 00215 Property Number: 21200720073

Fort Eustis

Ft. Eustis VA 23604

Status: Unutilized

Reason: Occupied

Washington

U015A Property Number: 21199920273

Fort Lewis

Ft. Lewis Co: Pierce WA 98433

Status: Excess

Reason: Occupied

GSA

Alabama

Anniston SSA Building Property Number: 54201330002

301 E. 13th St.

Anniston AL 36207

Status: Excess

GSA Number: 4-G-AL-0790AA

Reason: Expressions of interest received

Georgia

Land

Former GNK Outer Marker Property Number: 54201310008

Hunt Rd.

LaGrange GA 31909

Status: Excess

GSA Number: 4-U-GU-88AA

Reason: Advertised for Sale

Hawaii

Building

Bldg. 133 & Antenna Tower 133A Property Number: 54201320012

Kamehaine Dr., Waimanalo Ridge

Hawaii Kai HI 96825

Status: Surplus

GSA Number: 9-N-HI-811

Reason: Expression of Interest received

Illinois

Land

Three Contiguous Vacant Lots Property Number: 54201320021

5139 S. Mason Ave.

Chicago IL

Status: Surplus

GSA Number: 1-U-IL-803

Reason: Expression of Interest Received

Kentucky

Little Hurricane Island Access Property Number: 54201320024

Tract No. 819 & 816E, Newburgh

Locks & Dams

Owensboro KY 42301

Status: Excess

GSA Number: 4-D-KY-0629

Reason: Expression of Interest Received

Minnesota

Building

Noyes Land Port of Entry Property Number: 54201230007

SW Side of US Rte. 75

Noyes MN 56740

Status: Excess

GSA Number: 1-G-MN-0593

Reason: Advertised for sale

Mississippi

Land

Harrison County Farm Property Number: 54201320022

John Clark Rd.

Gulfport MS 39503

Status: Excess

GSA Number: 4-A-MS-0572

Reason: Expression of Interest Received

Nebraska

Building

Former Omaha Qtrs. Depot Property Number: 54201310005

2101 Woolworth Ave.

Omaha NE 68108

Status: Surplus

GSA Number: 7-D-NE-0530

Reason: Advertised for sale

Nevada

2 Buildings Property Number: 54201240012

Military Circle

Tonopah NV

Status: Surplus

GSA Number: 9-I-NV-514-AK

Reason: Expression of Interest received

New Jersey

Former SSA Trust Fund Bldg. Property Number: 54201310004

396 Bloomfield Ave.

Montclair NJ 07042

Status: Surplus

GSA Number: 1-G-NJ-0676

Reason: Expression of Interest received

Portion of Former Sievers—Property Number: 54201320015

Sandberg US Army Reserves Center—Tract 1

NW Side of Artillery Ave. at Rte. 130

Oldmans NJ 08067

Status: Surplus

GSA Number: 1-D-NJ-0662-AA

Reason: Expression of interest received

Portion of former Sievers—Property Number: 54201320003

Sandberg US Army Reserves Center (Camp Pedric)

Artillery Ave at Garrison St.

Oldmans NJ 08067

Location: On the north side of Rte. 130, between Perkintown Road (Rte. 644) and Pennsgove-Pedricktown Rd (Rte. 642)

Status: Surplus

Reason: Expression of Interest

GSA Number: 1-D-NJ-0662-AB

New York

Building 606 Property Number: 54201310009

1 Amsterdam Rd.

Scotia NY 12301

Status: Surplus

GSA Number: NY-0975

Reason: Expression of interest received

Former Leso-Leano US Army Property Number: 54201320004

Reserve Center

500 Massey St. South

Watertown NY 13601

Location: On Massey St So, corner of Pine St and Ten Eyck St W.

Status: Surplus

Reason: Expression of Interest

GSA Number: 1-D-NY-0698

Building 240 Property Number: 54201320007

Hill Rd, AFRL Rome Research Site

Rom NY 13441

Status: Excess

GSA Number: ny0938

Reason: Advertised for sale

Portion of GSA Binghamton Property Number: 54201320008

“Hillcrest” Depot—Tract 2

1151 Hoyt Avenue

Fenton NY 13901

Status: Surplus

GSA Number: 1-G-NY0670-AD

Reason: Expression of interest received

Portion of GSA Binghamton Property Number: 54201320017

“Hillcrest” Depot—Tract 1

1151 Hoyt Ave.

Fenton NY 13901

Status: Surplus

GSA Number: 1-G-NY0670-AC

Reason: Advertised for sale

Washington

Former Seattle Branch of the Property Number: 54201340001

Federal Reserve Bank

1015 Second Ave.

Seattle WA 98104

GSA Number: 9-G-WA-1259

Reason: Expression of interest

West Virginia

Appalachian Farming System Property Number: 54201340002

Research Ctr. Main Lab

1224 Airport Rd.

Beaver WV 25813

Location: Landholding Agency—US Forest Service

GSA Number: 4-A-WV-559AA

Reason: Expression of Interest

Land

Appalachian Farming System Property Number: 54201340003

Research Ctr. Peters Farms

227 Peters Ct.

Cool Ridge WV 25825

Location: Landholding Agency—US Forest Service

Disposal Agency—GSA

Status: Excess

GSA Number: 4-A-WV-559AD

Reason: Expression of Interest

Appalachian Farming System Property Number: 54201340004

Research School House Farm

4362 Pluto Rd.

Shady Springs WV 25918

Location: Landholding Agency—US Forest Service

Disposal Agency—GSA

Status: Excess

GSA Number: 4-A-WV-559AC

Reason: Expression of Interest

Appalachian Farming System Property Number: 54201340005

Research Ctr. Reba Plumley Farm

898 Country Rte. 27

Shady Springs WV 25918

Location: Landholding Agency—US Forest Service

Disposal Agency—GSA

Status: Excess

GSA Number: 4-A-WV-559AB

Reason: Expression of Interest

New York

FAA Radio Communication Link Property Number: 54201330001

Adjacent to Babcock Road

Colesville NY 13787

Status: Excess

GSA Number: 1-NY-0977-AA

Reason: Expression of Interest Received

Radio Communication Link Property Number: 54201330004

Repeater Site

5979 Wagner Hill Rd.

Wheeler NY 14809

Location: Landholding Agency: FAA; Disposal Agency: GSA

Status: Excess

Reason: Expression of Interest

GSA Number: 1-NY-0981-AA

South Carolina

Building

Former US Vegetable Lab Property Number: 54201310001

2875 Savannah Hwy

Charleston SC 29414

Status: Excess

GSA Number: 4-A-SC-0609AA

Reason: Expression of Interest Received

Tennessee

Land

Fort Campbell Army Garrison

U.S. Hwy 79

Woodlawn TN 37191

Status: Excess

GSA Number: 4-D-TN-586-2

Reason: Conveyance pending

Texas

Building

Former Navy & Marine Corps Res Property Number: 54201240013

5301 Ave. South

Galveston TX 77551

Status: Surplus

GSA Number: 7-D-TX-0549-9

Reason: Conveyance pending

Dallas Social Security Property Number: 54201330008

Admin. Bldg.

Dallas TX 75201

Status: Excess

GSA Number: 7-G-TX-1149

Reason: Advertised for sale

Virginia

Building 641 Property Number: 54201320006

216 Hunting Ave.

Hampton VA 23681

Status: Excess

GSA Number: 4-Z-VA-0602-A1

Reason: Expression of Interest

Washington

Old Bellingham Border Patrol Property Number: 54201310011

Station

2745 McLeod Rd.

Bellingham WA 98225

Location: Two buildings, an office & garage/storage facility; totaling approx. 4,320 sf.

Status: Excess

Reason: Advertised for sale

GSA Number: 9-Z-WA-1264

712 Records Center Printing & Property Number: 54201320025

Repro Plant 712B IRM

940 Northgate Dr.

Richland WA 99352

Status: Excess

GSA Number: 9-B-WA-1268

Reason: Expression of Interest Received

Land

1.8 Ac. of the Richland FB N. Property Number: 54201310002

Parking Lot

825 Jadwin Ave.

Richland WA 99723

Status: Excess

GSA Number: 9-G-WA-1263

Reason: Expression of Interest Received

[FR Doc. 2014-02944 Filed 2-13-14; 8:45 am]

BILLING CODE 4210-67-P